FEDERAL COMMUNICATIONS COMMISSION

Privacy Act of 1974, As Amended; System of Records

AGENCY: Federal Communications Commission (FCC or Commission)

ACTION: Notice; one proposed new system of records, 24 proposed new routine uses, 30 altered systems of records, and elimination of three systems of records.

SUMMARY: As required by the Privacy Act of 1974, 5 U.S.C. 552a(e)(4), as amended, this document sets forth notice of the existence of all systems of records maintained by the FCC. This notice also proposes to establish one new system of records, to alter 30 existing systems, and to eliminate three systems of records that are no longer used by the Commission. For the convenience of the reader, the agency eliminated using “Blanket Routine Uses” and listed the routine uses in the body of the notice itself. This notice provides and makes readily available in one issue of the Federal Register an accurate and complete text, with administrative and editorial changes, of the FCC's systems of records for use by individuals and by agency Privacy Act officials.

DATES: Any interested person may submit written comments concerning the routine uses of this system on or before November 22, 2000. The Office of Management and Budget (OMB), which has oversight responsibility under the Privacy Act to review the system, may submit comments on or before December 4, 2000. This proposed system will be effective on December 4, 2000 unless the FCC receives comments that require a contrary determination. The Commission will publish a document in the Federal Register notifying the public if any changes are necessary.

ADDRESSES: Address comments to Les Smith, Performance Evaluation and Record Management (PERM), Room 1-A804, Federal Communications Commission, 445 12th Street, SW., Washington, DC 20554, or via the Internet at lesmith@fcc.gov, or to Edward Springer, FCC Desk Officer, Office of Information and Regulatory Affairs, Office of Management and Budget, Docket Library, Room 10236, NEOB, 725 17th Street, NW., Washington, DC 20503, or via the Internet at Edward C. Springer@omb.eop.gov.

FOR FURTHER INFORMATION CONTACT: Les Smith, Performance Evaluation and Record Management (PERM), Room 1-A804, Federal Communications Commission (FCC), 445 12th Street, SW., Washington, DC 20554, or via the Internet at lesmith@fcc.gov or Laurence Schecker, Attorney Advisor, Office of General Counsel, at (202) 418-1720 or via the Internet at lschecker@fcc.gov.

SUPPLEMENTARY INFORMATION: The FCC previously gave complete notice of all of its systems of records by publication in the Federal Register, May 18, 1992, 57 FR 21091. Since that publication, the Commission has added and deleted systems of records, and has made non-substantive changes to many existing systems of records. Therefore, a complete copy of the Commission's systems of records presently can be obtained only by referring to several Federal Register notices. The Commission is publishing the complete text of all of its systems notices to provide a current, easily accessible compilation.

The proposed changes in this notice result from editorial changes to the existing systems of records; notices to update, simplify, or clarify, as necessary, these systems of records; the application of new technology; and the transfer of duties and responsibilities between bureaus, including the creation of the Wireless Telecommunication Bureau (WTB) in 1994, and the most recent Commission reorganization, the creation of the Enforcement Bureau (EB) and the Consumer Information Bureau (CIB), and the elimination of the Compliance and Information Bureau (CIB) in 1999.

The transfer, updating, or renaming of seven systems of records between bureaus:

1. FCC/CCB-1 to new FCC/CIB-1, “Informal Complaints and Inquiries Files (Broadcast, Common Carrier, and Wireless Telecommunications Bureau Radio Services);”

2. Old FCC/CIB-4 to new FCC/CIB-4, “Telephone and Electronic Contacts;”

3. Old FCC/FOB-2 to new FCC/EB-1, “Violators File;”

4. Old FCC/FOB-3 to new FCC/EB-2, “State and Operational Areas Emergency Commissions Committee Membership;”

5. FCC/OGC-7 to FCC/Central-12, “Garnishment and Levy of Wages;”

6. Old FCC/PRB-5 to FCC/WTB-5, “Application Review List for Present or Former Licensees, Operators, or Unlicensed Persons Operating Radio Equipment Improperly;” and

7. Old FCC/FOB-1 to FCC/WTB-6, “Radio Operator Records.”

The addition of one new system of records:

FCC/Central-11, “Interoffice (GroupWise) and Internet E-mail Systems;” and

The purging of three systems of records:

1. FCC/Central-3, “Employee Assistance Program Case Files;”

2. FCC/OGC-1, “Alleged Violators File (Ex Parte Rules);” and

3. FCC/OGC-4, “Parties Involved in Current Litigation before Federal Courts.”

The alteration of nine systems of records to make various editorial changes to the existing systems notices: FCC/Central-5, “Alcoholism and Drug Case Files; FCC/Central-6, “Personnel Investigative Records;” FCC/Central-7, “Freedom of Information Act Case Files;” FCC/OGC-2, “Attorney Misconduct Files; FCC/OGC-2, “Employee Complaint Adjudication;” FCC/OGC-6, “Private or Civil Injury Claimants;” FCC/OIG-1, “Criminal Investigative Files;” FCC/OIG-2, “General Investigative Files;” and FCC/OMB-4, “Security Office Control Files.”

The expansion of 15 systems of records to include additional components and updates:

FCC/Central-1, “Pay and Leave,” was modified to remove the travel component, which was transferred to FCC/OMD-6, and to add the “leave transfer” program. The records in this system of records were also expanded to include Social Security Numbers, which are required to administer the Commission's pay and leave requirements.

FCC/Central-2, “Employee Locator Card Files,” the purpose of this system of records was modified to address its use for administrative offices only. The system of records was also as expanded to add five routine uses, as follows:

• Routine use (1) allows disclosure where there is an indication of a violation or potential violation of a statute, regulation, rule, or order, records may be referred to the appropriate Federal, state, or local agency responsible for investigating or prosecuting a violation or for enforcing or implementing the statute, rule, regulation, or order;

• Routine use (2) allows disclosure to a Federal agency, in response to its request, in connection with the hiring or retention of an employee, the issuance of a security clearance, the reporting of an investigation of an employee, the letting of a contract, or the issuance of a license, grant, or other benefit;

• Routine use (3) allows a record on an individual in this system of records to be disclosed to a Congressional office in response to an inquiry the individual has made to the Congressional office;

• Routine use (4) allows a record from this system of records to be disclosed to an FCC officer in the case where an emergency of a medical or other nature involving the employee may occur while on the job; and

• Routine use (5) permits a record in this system of records to be disclosed to the Office of Personnel Management in order for it to carry out its legally authorized Government-wide functions and duties.

FCC/Central-8, “Telephone Call Detail and Equipment Loan Records,” the categories of individuals and the categories of records covered by this system were expanded to include those individuals who are loaned electronic equipment to use when their work requires them to work outside the office or to maintain close contact with the Commission staff, i.e., laptop computers, pagers/beepers, and cellular telephone equipment, etc. These records include the individual's name, FCC I.D. badge number, bureau/office, loaned equipment's barcode number, serial number, model number, and modem number.

FCC/Central-9, “Denial of Federal Benefits (Drug Debarment List),” the categories of records in this system were expanded to include the person's Taxpayer Identification Number (TIN).

FCC/Central-10, “Access Control System,” the categories of records in the system were modified to limit the data elements in the “visitors database” to just the person's first and last names and their numerical identifier. (The person's telephone number, destination, agency or firm name, and the photographic identification elements were removed as required fields.)

FCC/CIB-1, “Informal Complaints and Inquiries Files (Broadcast, Common Carrier, and Wireless Telecommunications Bureau Radio Services),” was expanded to include other telecommunications service complaints and inquiries as noted in the title change. The Commission now redacts information which could identify the complainant or correspondent, i.e., name, address, and/or telephone number, before it allows the public to inspect the records. Several routine uses were added as follows:

• Routine use (1) permits a record from this system to be disclosed when a complaint against a common carrier is involved, the complaint is forwarded to the defendant carrier who must, within a prescribed time frame, either satisfy the complaint or explain to the Commission and the complainant its failure to do so;

• Routine use (3) permits a record from this system to be disclosed to a Federal agency, in response to its request, in connection with the hiring or retention of an employee, the issuance of a security clearance, the reporting of an investigation of an employee, the letting of a contract, or the issuance of a license, grant, or other benefit;

• Routine use (6) permits a record on an individual in this system of records to be disclosed to a Congressional office in response to an inquiry the individual has made to the Congressional office; and

• Routine use (7) permits a record from this system of records to be disclosed to GSA and NARA for the purpose of records management inspections conducted under authority of 44 U.S.C. 2904 and 2906. Such disclosure shall not be used to make a determination about individuals.

FCC/EB-1, “Violators File,” the categories of individuals covered by this system were expanded to include licensees, applicants, and unlicensed persons under parts 80, 87, 90, 94, 95, and 97 of the rules about whom there were questions of compliance with the Commission's rules or the Communications Act of 1934, as amended. One routine use was also added as follows:

• Routine use (4) was modified so that a record from this system of records may be disclosed in response to a request for information from a Federal, state, or local agency maintaining civil, criminal, or other relevant enforcement information or other pertinent information, such as licenses, if necessary to obtain information relevant to a Commission decision concerning the hiring or retention of an employee, the issuance of a security clearance, the letting of a contract, or the issuance of a license, grant, or other benefit.

FCC/OET-1, “Experimental Radio Station License Files,” the categories of records in this system have been expanded to include the applicant's FCC Registration Number (FRN), FCC Form 702, Application for Consent to Assignment of Radio Station Construction Authorization or License; and FCC Form 703, Application for Consent to Transfer Control of Corporation Holding Station License. A routine use was added as follows:

• Routine use (1) in this system was modified to restrict disclosure of information if it is not routinely available for public inspection under § 0.457 of the Commission's rules, 47 CFR 0.459, or a request that the information be given confidential treatment is granted under § 0.459 of the Commission's rules, 47 CFR 0.459.

FCC/OGC-5, “Parties with Pending Civil Cases that Affect the Commission before any District Court; before any Court of Appeals; and before the Supreme Court,” the name of this system was modified to include additional courts.

FCC/OMD-2, “Labor and Employee Relations Case Files,” has been modified to add a routine use as follows:

• Routine use (1) permits disclosure to FCC officials when such officials have a “need to know” in carrying out their official duties.

FCC/OMD-3, “Federal Advisory Committee Membership File (FACA),” the categories of records in this system have been expanded to include copies or originals of financial disclosure forms, whenever they must be filed by the committee members, may be kept by the members' respective advisory committees. Specific information on Advisory Committees is generally stored with each Advisory Committee Official while the more general information about the committees is the Office of the Managing Director. In addition the routine uses were also modified or expanded as follows:

• Routine use (2) which allows for disclosure of information to the public, upon request, has been modified to make these records available in both hardcopy and electronic;

• Routine use (3) which permits disclosure to the General Services Administration (GSA) has been expanded to permit disclosure, if necessary, to the Office of Management and Budget (OMB), for use in compiling an annual report; and

• Routine use (4) has been added which may permit a record in this system to be disclosed to furnish information to Congress in response to periodic Congressional inquiries.

FCC/OMB-6, “Records of Money Owed, Received, Refunded, and Returned,” was modified to add “Owed” to the title of this system of records. A travel component was transferred from FCC/Central-1 to this system of records. The categories of records in this system were also expanded to include the Taxpayer Information Number (TIN), the FCC Registration Number (FRN), and loan payment information;

FCC/OMD-7, “FCC Employee Transit Benefit and Parking Permit Programs,” has added a mass transit component and handicap provisions which has expanded the number of routine uses applicable to this system of records. These are as follows:

• Routine use (4) which allows a record in this system to be disclosed to a FCC employee in his/her individual capacity when inquiring about his/her application that was submitted for the Transit Benefit and/or Parking Permit Programs. Employees may do so by supplying their full name and FCC ID Badge Number (Identification Number must match number in the system);

• Routine use (5) which allows record in this system to be disclosed where there is an indication of misrepresentation to obtain, or misuse of, a transit benefit; and/or parking permit, records from this system may be referred to the appropriate FCC official responsible for revoking the transit benefit and/or parking permit, and recovering the unauthorized amount of used transit benefit, suspending employee participation in the programs, and/or may result in disciplinary action;

• Routine use (6) which allows record in this system to be disclosed to GSA/GAO for the purposes of records management inspections conducted. Such disclosure shall not be used to make a determination about an individual;

• Routine use (7) which allows a record in this system to be used for administrative purposes by authorized personnel for production of listings and reports. This system may be used for periodic review of re-certification, and to ensure eligibility for, and receipt of, transit benefit and parking privileges;

• Routine use (8) which allows a record from this system to be disclosed for a request for information from a Federal, state, or local agency in connection with the approval/disapproval of an application for special parking assignment; and

• Routine use (9) which allows a record in this system to be disclosed to agency contractors, who have been engaged by the agency to assist in the performance of a service related to this system of records and who need to have access to the records in order to perform the necessary activity. Recipients will be required to comply with the requirements of the Privacy Act of 1974, as amended, pursuant to 5 U.S.C. 552a(m).

FCC/WTB-1, “Wireless Services Licensing Records,” the categories of records has been expanded to include the Taxpayer Identification Number (TIN) which appears on all FCC forms listed under this system of records.

FCC/WTB-5, “Application Review List for Present or Former Licensees, Operators, or Unlicensed Persons Operating Radio Equipment Improperly,” was expanded to include seven routine uses. These are as follows:

• Routine use (1) allows a record from this system of records to be disclosed where there is an indication of a violation or potential violation of a statute, regulation, rule, or order, records from this system may be referred to the appropriate Federal, state, or local agency responsible for investigating or prosecuting a violation or for enforcing or implementing the statute, rule, regulations or order;

• Routine use (2) allows record from this system to be disclosed to request information from a Federal, state, or local agency maintaining civil, criminal, or other relevant enforcement information or other pertinent information, such as licenses, if necessary to obtain information relevant to a Commission decision concerning the issuance of a license, grant or other benefit or enforcement proceedings;

• Routine use (3) allows a record from this system to be disclosed to a Federal agency, in response to its request, in connection with the hiring or retention of an employee, the issuance of a security clearance, the reporting of an investigation of an employee, the letting of a contract, or the issuance of a license, grant or other benefit;

• Routine use (4) allows a record on an individual in this system of records to be disclosed to a Congressional office in response to an inquiry the individual has made to the Congressional office.

• Routine use (5) allows a record from this system of records to be disclosed to GSA and NARA for the purpose of records management inspections conducted under authority of 44 U.S.C. 2904 and 2906. Such disclosure shall not be used to make a determination about individuals;

• Routine use (6) allows a record on an individual in this system of records to be disclosed, where pertinent, in any legal proceeding to which the Commission is a party before a court or administrative body;

• Routine use (7) allows a record from this system of records to be disclosed to the Department of Justice or in a proceeding before a court or adjudicative body when:

(a) The United States, the Commission, a component of the Commission, or, when arising from his employment, an employee of the Commission is a party to litigation or anticipated litigated or has an interest in such litigation, and

(b) The Commission determines that the disclosure is relevant or necessary to the litigation.

A complete list of all FCC systems of records is published below. The complete text of the notices follows:

Table of Contents

1. FCC/Central-1, Pay and Leave Records.

2. FCC/Central-2, Employee Locator Card Files.

3. FCC/Central-5, Drug-Free Federal Workplace Program.

4. FCC/Central-6, Personnel Investigation Records.

5. FCC/Central-7, Freedom of Information Act (FOIA) Case File.

6. FCC/Central-8, Telephone Call Detail and Equipment Loan Records.

7. FCC/Central-9, Denial of Federal Benefits (Drug Debarment List).

8. FCC/Central-10, Access Control System.

9. FCC/Central-11, Interoffice (GroupWise) and Internet E-mail Systems.

10. FCC/Central-12, Garnishment and Levy of Wages.

11. FCC/CIB-1, Informal Complaints and Inquiries Files (Broadcast, Common Carrier, and Wireless Telecommunications Bureau Radio Services).

12. FCC/CIB-4, Telephone and Electronic Contacts.

13. FCC/EB-1, Violators File.

14. FCC/EB-2, State and Operational Areas Emergency Commissions Committee Membership.

15. FCC/OET-1, Experimental Radio Station License Files.

16. FCC/OGC-2, Attorney Misconduct Files.

17. FCC/OGC-3, Employee Complaint Adjudication.

18. FCC/OGC-5, Parties with Pending Civil Cases that affect the Commission before any District Court; before any Court of Appeals; and before the Supreme Court.

19. FCC/OGC-6, Private or Civil Injury Claimants.

20. FCC/OIG-1, Criminal Investigative Files.

21. FCC/OIG-2, General Investigative Files.

22. FCC/OMD-2, Labor and Employee Relations Case Files.

23. FCC/OMD-3, Federal Advisory Committee Membership Files (FACA).

24. FCC/OMD-4, Security Office Control Files.

25. FCC/OMD-6, Records of Money Owed, Received, Refunded, and Returned.

26. FCC/OMD-7, FCC Employee Transit Benefit and Parking Permit Program.

27. FCC/OMD-8, Revenue Accounting Management Information System (“RAMIS”).

28. FCC/OMD-9, Commission Registration System (“CORES”).

29. FCC/WTB-1, Wireless Services Licensing Records.

30. FCC/WTB-5, Application Review List for Present or Former Licensees, Operators, or Unlicensed Persons Operating Radio Equipment Improperly.

31. FCC/WTB-6, Radio Operator Records.

Federal Communications Commission.
Magalie Roman Salas,
Secretary.

FCC/Central-1

SYSTEM NAME:

Pay and Leave Records.

SYSTEM LOCATION:

Associate Managing Director, Human Resources Management, Office of Managing Director, Federal Communications Commission (FCC), 445 12th Street, SW, Room 1-B104, Washington, DC 20554. See FCC telephone directory for field office addresses.

CATEGORIES OF INDIVIDUALS COVERED BY THE SYSTEM:

Employees of the Federal Communications Commission.

CATEGORIES OF RECORDS IN THE SYSTEM:

This system contains various records, including Social Security Numbers, which are required to administer the pay and leave requirements of the Commission.

AUTHORITY FOR MAINTENANCE OF THE SYSTEM:

44 U.S.C. 3101, 3102, and 3309; 5 U.S.C. 6331-6340; Pub. L. 100-566, Leave Transfer Program; Executive Order 9397 (November 22, 1943), which authorizes the use of the Social Security Number; and Pub. L. 104-193, Personal Responsibility and Work Opportunity Reconciliation Act of 1996.

PURPOSE(S):

1. To authorize payroll deductions for allotments, savings bonds, charitable contributions, union dues, health benefits, and life insurance; collect indebtedness for overpayment of salary and unpaid Internal Revenue taxes; pay income tax obligations to Internal Revenue Service; authorize issuing of salary checks by Treasury Department; report gross wages and separation information for unemployment compensation; pay any uncollected compensation due a deceased employee; provide for a periodic summary of employee payroll data and retirement contributions; and determine eligibility for and/or authorize donations for the leave transfer program.

2. As a data source for management information for production of summary descriptive statistics and analytical studies in support of the function for which the records are collected and maintained, or for related personnel management functions or manpower studies; may also be utilized to respond to general requests for statistical information (without personal identification of individuals) under the Freedom of Information Act or to locate specific individuals for personnel research or other personnel management functions.

ROUTINE USES OF RECORDS MAINTAINED IN THE SYSTEM, INCLUDING CATEGORIES OF USERS AND THE PURPOSES OF SUCH USES:

1. Where there is an indication of a violation or potential violation of a statute, regulation, rule, or order, records from this system may be referred to the appropriate federal, state, or local agency responsible for investigating or prosecuting a violation or for enforcing or implementing the statute, rule, regulation, or order.

2. A record from this system may be disclosed to request information from a federal, state, or local agency maintaining civil, criminal, or other relevant information enforcement information or other pertinent information, such as licenses, if necessary to obtain information relevant to a Commission decision concerning the hiring or retention of an employee, the issuance of a security clearance, the letting of a contract, or the issuance of a license, grant, or other benefit.

3. A record from this system may be disclosed to a Federal agency, in response to its request, in connection with the hiring or retention of an employee, the issuance of a security clearance, the reporting of an investigation of an employee, the letting of a contract, or the issuance of a license, grant, or other benefit.

4. A record on an individual in this system of records may be disclosed to a Congressional office in response to an inquiry the individual has made to the Congressional office.

5. A record from this system of records may be disclosed to GAO and NARA for the purpose of records management inspections conducted under authority of 44 U.S.C. 2904 and 2906. Such disclosure shall not be used to make a determination about individuals.

6. A record on an individual in this system of records may be disclosed, where pertinent, in any legal proceeding to which the Commission is a party before a court or administrative body.

7. A record from this system of records may be disclosed to the Department of Justice or in a proceeding before a court or adjudicative body when:

(a) The United States, the Commission, a component of the Commission, or, when represented by the government, an employee of the Commission is a party to litigation or anticipated litigation or has an interest in such litigation, and

(b) The Commission determines that the disclosure is relevant or necessary to the litigation.

8. A record in this system of records may be disclosed to the Office of Personnel Management in order for it to carry out its legally authorized Government-wide functions and duties.

9. The names, social security numbers, home addresses, dates of birth, dates of hire, quarterly earnings, employer identifying information, and State of hire of employees may be disclosed to the Office of Child Support Enforcement, Administration for Children and Families, Department of Health and Human Services for the purposes of locating individuals to establish paternity, establishing and modifying orders of child support, identifying sources of income, and for other child support enforcement actions as required by the Personal Responsibility and Work Opportunity Reconciliation Act (Welfare Reform Law, Pub. L 104-193).

In each of these cases, the FCC will determine whether disclosure of the record is compatible with the purpose for which the records were collected.

POLICIES AND PRACTICES FOR STORING, RETRIEVING, ACCESSING, RETAINING, AND DISPOSING OF RECORDS IN THE SYSTEM:

STORAGE:

Records are maintained in an automated personnel and payroll system and in files in folders, cards, magnetic tapes, and loose leaf binders.

RETRIEVABILITY:

Records are indexed by name and social security number.

SAFEGUARDS:

Records are maintained in filing cabinets in an office that is locked when not occupied by staff. Automated and manual records are available only to authorized personnel whose duties require access. Data resident on network servers are backed-up daily to magnetic media. One week's worth of back-up tapes is stored on-site in fireproof saves. Each week, the previous week's backup tapes are sent to an off-site storage location. A maximum of ten week's tapes are kept and cycled in this fashion.

RETENTION AND DISPOSAL:

Records are maintained for varying periods of time from one year to permanently in accordance with General Records Schedules issued by the National Archives and Records Administration. Disposal is by shredding.

SYSTEM MANAGER(S) AND ADDRESS:

Associate Managing Director, Human Resources Management, Office of the Managing Director, Federal Communications Commission (FCC), 445 12th Street, SW., Room 1-B104, Washington, DC 20554, or the appropriate administrative office in which the individual is employed.

NOTIFICATION PROCEDURE:

Address inquiries to the system manager. It is necessary to furnish the following information in order to identify the individual whose records are requested: Full name; Date of Birth; Social Security Number; and Mailing address to which the reply should be mailed.

RECORD ACCESS PROCEDURES:

Address inquiries to the system manager. Requesters should reasonably specify the record contents being contested.

CONTESTING RECORD PROCEDURES:

Address inquiries to the system manager. Requesters should reasonably specify the record contents being contested.

RECORD SOURCE CATEGORIES:

Information is provided by management officials and by the individuals on whom the record is maintained.

EXEMPTIONS CLAIMED FOR THE SYSTEM:

None.

FCC/Central-2

SYSTEM NAME:

Employee Locator Card Files.

SYSTEM LOCATION:

Mailroom and administrative offices of the Federal Communications Commission (FCC), 445 12th Street, SW, Room TW-C201, Washington, DC 20554, and FCC field offices. See FCC telephone directory for field office addresses.

CATEGORIES OF INDIVIDUALS COVERED BY THE SYSTEM:

Current employees of the Federal Communications Commission.

CATEGORIES OF RECORDS IN THE SYSTEM:

1. This system contains information regarding the employee's office, organizational location, telephone number, home telephone number and address.

2. This system also contains the home address and telephone number of the employee, and the name, address, and telephone number of an individual to contact in the event of a medical or other emergency involving the employee.

AUTHORITY FOR MAINTENANCE OF THE SYSTEM:

5 U.S.C. 301.

PURPOSE(S):

Information in this system of records is collected for use of the administrative offices. The records in this system serve to identify an individual for office officials to contact, should an emergency of a medical or other nature involving the employee occur while the employee is on the job.

ROUTINE USES OF RECORDS MAINTAINED IN THE SYSTEM, INCLUDING CATEGORIES OF USERS AND THE PURPOSES OF SUCH USES:

The records in this system of records may be used:

1. Where there is an indication of a violation or potential violation of a statute, regulation, rule, or order, records from this system of records may be referred to the appropriate Federal, state, or local agency responsible for investigating or prosecuting a violation or for enforcing or implementing the statute, rule, or regulation, or order.

2. A record from this system may be disclosed to a Federal agency, in response to its request, in connection with the hiring or retention of an employee, the issuance of a security clearance, the reporting of an investigation of an employee, the letting of a contract, or the issuance of a license, grant, or other benefit.

3. A record on an individual in this system of records may be disclosed to a Congressional office in response to an inquiry the individual has made to the Congressional office.

4. A record from this system of records may be disclosed to an FCC officer in the case where an emergency of a medical or other nature involving the employee may occur while on the job.

5. A record in this system of records may be disclosed to the Office of Personnel Management in order for it to carry out its legally authorized Government-wide functions and duties.

In each of these cases, the FCC will determine whether disclosure of the record is compatible with the purpose for which the records were collected.

POLICIES AND PRACTICES FOR STORING, RETRIEVING, ACCESSING, RETAINING, AND DISPOSING OF RECORDS IN THE SYSTEM:

STORAGE:

Records are maintained on cards or 3″ x 5″ paper.

RETRIEVABILITY:

Records are retrieved by the employee's name.

SAFEGUARDS:

Records are maintained in secured areas and are available only to authorized personnel whose duties require access.

RETENTION AND DISPOSAL:

Records are maintained as long as the individual is an employee of the Federal Communications Commission. Expired records are destroyed by shredding.

SYSTEM MANAGER(S) AND ADDRESS:

Appropriate personnel or administrative office in which the employee is employed.

NOTIFICATION PROCEDURE:

FCC employees wishing to inquire whether this system contains information about them should contact the appropriate FCC administrative officer where employed. Individuals must supply their full name in order for records to be located and identified.

RECORD ACCESS PROCEDURES:

Same as above.

CONTESTING RECORD PROCEDURES:

Same as above.

RECORD SOURCE CATEGORIES:

Individual on whom the record is maintained.

EXEMPTIONS CLAIMED FOR THE SYSTEM:

None.

FCC/Central-5

SYSTEM NAME:

Drug-Free Federal Workplace Program.

SYSTEM LOCATION:

Associate Managing Director—Administrative Operations, Office of Managing Director, Federal Communications Commission (FCC), 445 12th Street, SW., Washington, DC 20554.

CATEGORIES OF INDIVIDUALS COVERED BY THE SYSTEM:

FCC employees who seek guidance and counseling through the agency Drug-Free Federal Workplace Program.

CATEGORIES OF RECORDS IN THE SYSTEM:

This system includes information on an employee's personal history as it relates to his/her problem. The system also contains records on employees referred for counseling.

AUTHORITY FOR MAINTENANCE OF THE SYSTEM:

5 U.S.C.

PURPOSE(S):

Reference material for the use of the Program Administrator and Counselors.

ROUTINE USES OF RECORDS MAINTAINED IN THE SYSTEM, INCLUDING CATEGORIES OF USERS AND THE PURPOSES OF SUCH USES:

Records in this system of records contain reference material(s) for the use of the Program Administrator and Counselors. In each case, the FCC will determine whether disclosure of the records is compatible with the purpose for which the records were collected.

POLICIES AND PRACTICES FOR STORING, RETRIEVING, ACCESSING, RETAINING, AND DISPOSING OF RECORDS IN THE SYSTEM:

STORAGE:

Records are stored in locked metal cabinets in the Program Administrator's Office.

RETRIEVABILITY:

Records are filed and retrieved by name of the employee.

SAFEGUARDS:

Records are maintained in an office that is locked when not occupied by the Program Administrator. They are maintained in strict confidence and are accorded the same security and accessibility restrictions provided for medical records.

RETENTION AND DISPOSAL:

Records are kept indefinitely or until the employee leaves the FCC, at which time they are destroyed by shredding.

SYSTEM MANAGER(S) AND ADDRESS:

Associate Managing Director—Administrative Operations, Office of the Managing Director, Federal Communications Commission (FCC), 445 12th Street, SW., Washington, DC 20554.

NOTIFICATION PROCEDURE:

Address inquiries to the system manager.

RECORD ACCESS PROCEDURES:

Address inquiries to the system manager.

CONTESTING RECORD PROCEDURES:

Address inquiries to the system manager.

RECORD SOURCE CATEGORIES:

Employee, employee's supervisor, and counselors.

EXEMPTIONS CLAIMED FOR THE SYSTEM:

None.

FCC/Central-6

SYSTEM NAME:

Personal Investigation Records.

SECURITY CLASSIFICATION:

None for the system; however, items or records within the system may have national defense/foreign policy classifications up through secret.

SYSTEM LOCATION:

Security Operations Center, Assistant Managing Director—Administrative Offices (AMD-AO), Office of Managing Director, Federal Communications Commission (FCC), 445 12th Street, SW., Room 1-B458, Washington, DC 20554.

CATEGORIES OF INDIVIDUALS COVERED BY THE SYSTEM:

1. Current and former FCC employees or applicants for employment in the Federal service.

2. Individuals considered for access to classified information or restricted areas and/or security determinations such as contractors, experts, instructors, and consultants to Federal programs.

3. Individuals who are neither applicants nor employees of the Federal Government, but who are or were involved in Federal programs under a co-operative agreement.

CATEGORIES OF RECORDS IN THE SYSTEM:

1. These records contain investigative information regarding an individual's character, conduct, and behavior in the community where he or she lives or lived; arrests and convictions for violations against the law; reports of interviews with present and former supervisors, co-workers, associates, educators, etc.; reports about the qualifications of an individual for a specific position; reports of inquiries with law enforcement agencies, employers, educational institutions attended; reports of action after OPM or FBI Section 8(d) Full Field Investigation; Notices of Security Investigation and other information developed from the above described Certificates of Clearance; and in some instances a photograph of the subject.

2. Also contained are investigative data concerning allegations of misconduct by an FCC employee; miscellaneous complaints not covered by the FCC's formal or informal grievance procedure; and inquiries conducted under the President's Program to eliminate waste and fraud in Government.

AUTHORITY FOR MAINTENANCE OF THE SYSTEM:

5 CFR part 5; 5 U.S.C. 1303, 1304, and 3301; Executive Orders 10450 and 11222; and 47 CFR 19.735-107.

PURPOSE(S):

The records in this system are used to provide investigative information for determinations concerning compliance with Federal regulations and for individual personal determinations including suitability and fitness for Federal employment, access to classified information or restricted areas, security clearances, evaluations of qualifications, loyalty to the U.S., and evaluations of qualifications and suitability for performance of contractual services for the U.S. Government; to document such determinations; to take action on or respond to a complaint or inquiry concerning an FCC employee or to counsel the employee.

ROUTINE USES OF RECORDS MAINTAINED IN THE SYSTEM, INCLUDING CATEGORIES OF USERS AND THE PURPOSES OF SUCH USES:

1. Where there is an indication of a violation or potential violation of a statute, regulation, rule, or order, records from this system may be referred to the appropriate Federal, state, or local agency responsible for investigating or prosecuting a violation or for enforcing or implementing the statute, rule, regulation, or order.

2. A record on an individual in this system of records may be disclosed to a Congressional office in response to an inquiry the individual has made to the Congressional office.

3. A record for this system of records maybe disclosed to GSA and NARA for the purpose of records management inspections conducted under authority of 44 U.S.C.2904 and 2906. Such disclosure shall not be used to make a determination about individuals.

4. A record on an individual in this system of records may be disclosed, where pertinent, in any legal proceeding to which the Commission is a party before a court or administrative body.

5. Information from this system may be disclosed to designated officers and employees of agencies, offices, and other establishments in the executive, legislative, and judicial branches of the Federal Government, and the District of Columbia Government, when such agency, office, or establishment conducts an investigation of the individual of the purpose of granting a security clearance, making a determination of qualifications, suitability, or loyalty to the United States Government, or access to classified information or restricted areas.

6. A record from this system of records may be disclosed to the Department of Justice or in a proceeding before a court or adjudication body when:

(a) The United States, the Commission, a component of the Commission, or when represented by the government, an employee of the Commission is a party to litigation or anticipated litigation or has an interest in such litigation, and

(b) The Commission determines that the disclosure is relevant or necessary to the litigation.

In each of these cases, the FCC will determine whether disclosure of the records is compatible with the purpose for which the records were collected.

POLICIES AND PRACTICES FOR STORING, RETRIEVING, ACCESSING, RETAINING, AND DISPOSING OF RECORDS IN THE SYSTEM:

STORAGE:

Paper records are stored in file folders.

RETRIEVABILITY:

Records are retrieved by name of the individual subject.

SAFEGUARDS:

Records are maintained within a secure, access-controlled area, and stored in approved security containers. Access is limited to cleared Security Officer personnel and to Commission officials on a “need to know” basis when required.

RETENTION AND DISPOSAL:

Records are retained during employment or while individual is actively involved in federal programs. As appropriate, records are returned to investigating agencies after employment terminates. Records are retained for five years from the date that the employee departs from the Commission. Records are destroyed by shredding.

SYSTEM MANAGER(S) AND ADDRESS:

Security Operations Center, Office of Managing Director, Federal Communications Commission (FCC), 445 12th Street, SW, Room 1-B458, Washington, DC 20554.

NOTIFICATION, RECORD ACCESS AND CONTESTING RECORD PROCEDURES:

This system is exempt from the requirement that the agency publish the procedures for notifying an individual, at his or her request, if the system contains a record pertaining to him/her, for gaining access to such record, and for contesting the contents of the record.

RECORD SOURCE CATEGORIES:

This system is exempt from the requirement that the agency publish the categories of sources of records in this system.

EXEMPTION FROM CERTAIN PROVISIONS OF THE ACT:

This system of records is exempt from subsections (c)(3), (d), (e)(4)(G), (H), and (I), and (f) of the Privacy Act of 1974, 5 U.S.C. 552(a), and from 47 CFR 0.554-0.557 of the Commission's rules. These provisions concern the notification, record access, and contesting procedures described above, and also the publication of record sources. The system is exempt from these provisions because it contains the following types of information:

1. Investigative material compiled for law enforcement purposes as defined in section (k)(2) of the Privacy Act.

2. Properly classified information, obtained from another Federal agency during the course of a personnel investigation, which pertains to national defense and foreign policy, as stated in section (k)(1) of the Privacy Act.

3. Investigative material compiled solely for the purpose of determining suitability, eligibility, or qualifications for Federal civilian employment, as described in section (k)(5) of the Privacy Act, as amended.

FCC/Central-7

SYSTEM NAME:

Freedom of Information Act (FOIA) Case Files.

SYSTEM LOCATION:

FOIA Office, Federal Communications Commission (FCC), 445 12th Street, SW, Washington, DC.

CATEGORIES OF INDIVIDUALS COVERED BY THE SYSTEM:

Individuals or organizations requesting access to inspect and/or copy records of the Commission under provisions of the FOIA.

CATEGORIES OF RECORDS IN THE SYSTEM:

Name, address, and other information about the requester and the records sought.

AUTHORITY FOR MAINTENANCE OF THE SYSTEM:

Freedom of Information Act (1994 and Supp. II 1996), 5 U.S.C. 552.

PURPOSE(S):

Records are available to FOIA staff involved in correspondence and investigative processes, including appeals officials and members of the FCC General Counsel staff.

ROUTINE USES OF RECORDS MAINTAINED IN THE SYSTEM, INCLUDING CATEGORIES OF USERS AND THE PURPOSES OF SUCH USES:

1. In the event the Commission deems it desirable or necessary, in determining whether particular records are required to be disclosed under the FOIA, disclosure may be made to the Department of Justice for the purpose of obtaining its advice.

2. Where the appropriate official of the Commission, pursuant to the Commission's FOIA Regulation determines that it is in the public interest to disclose a record which is otherwise exempt from mandatory disclosure, disclosure may be made from the system of records.

3. The Commission contracts with a private firm for the purpose of searching, duplicating, and distributing to the public the documents maintained by the Commission and available for inspection under the Act. The contractor is required to maintain Privacy Act safeguards on such records.

4. A record on an individual in this system may be disclosed to a Congressional office in response to an inquiry the individual has made to the Congressional office.

5. In the event of litigation where the defendant is:

(a) The Commission, or any employee of the Commission in his or her official capacity;

(b) The United States where the Commission determines that the claim, if successful, is likely to directly the Commission's operations; or

(c) Any Commission employee in his or her individual capacity where the Justice Department has agreed to represent such employee, the Commission may disclose such records as it deems desirable or necessary to the Department of Justice to enable that Department to present an effective defense.

In each of these cases, the FCC will determine whether disclosure of the records is compatible with the purpose for which the records were collected.

POLICIES AND PRACTICES FOR STORING, RETRIEVING, ACCESSING, RETAINING, AND DISPOSING OF RECORDS IN THE SYSTEM: STORAGE:

Paper records maintained in case files (original or copy of incoming request and written response). Electronic records are maintained in an electronic database.

RETRIEVABILITY:

Records are indexed by FOIA control number of individual requester.

SAFEGUARDS:

Paper records are maintained in locked file cabinets in the office of FOIA officer, with limited access. Electronic records are secured through controlled access and passwords to restricted office personnel. Data resident on network servers are backed-up daily to magnetic media. One week's worth of back-up tapes is stored on-site in fireproof saves. Each week, the previous week's backup tapes are sent to an off-site storage location. A maximum of ten week's tapes are kept and cycled in this fashion.

RETENTION AND DISPOSAL:

Individual case files are maintained for two years after the date of reply. Denied requests and appeals of denials may be retained for longer periods (up to six years after final action) in accordance with FOIA and FCC records control schedules.

SYSTEM MANAGER(S) AND ADDRESS:

FOIA Officer, Federal Communications Commission (FCC), 445 12th Street, SW, Washington, DC 20554.

NOTIFICATION PROCEDURE:

Address inquiries to the FOIA Officer.

RECORD ACCESS PROCEDURES:

Address inquiries to the FOIA Officer.

CONTESTING RECORD PROCEDURES:

Address inquiries to the FOIA Officer.

RECORD SOURCE CATEGORIES:

Individuals and organizations making requests under FOIA or from bureaus or offices of the Commission reporting on the handling of such requests for inclusion in the annual report to Congress.

EXEMPTIONS CLAIMED FOR THE SYSTEM:

None.

FCC/Central-8

SYSTEM NAME:

Telephone Call Detail and Equipment Loan Records.

SYSTEM LOCATION:

Office of the Managing Director, Information Technology Center, Operations Group, Federal Communications Commission (FCC), 445 12th Street, SW., Room 1-C361, Washington, DC 20554.

CATEGORIES OF INDIVIDUALS COVERED BY THE SYSTEM:

1. This system of records contains information concerning the following actions:

(a) Individuals originating calls from FCC telephones and individuals receiving such calls;

(b) Individuals placing calls to or charging calls to FCC telephones (including cellular telephones);

(c) Individuals receiving such calls, or accepting the charges; and

(d) Individuals who are loaned electronic equipment to use when their work requires them to work outside the office or to maintain close contact with the Commission staff, i.e., laptops, pagers and cellular telephones.

2. The primary record subjects are current and former FCC employees, as well as individuals employed under any employment arrangement such as a contract or cooperative agreement; grantees; or other persons performing on behalf of the FCC.

3. Incidental to the coverage of the primary record subjects are non-employees who may be identified by telephone number during an inquiry or investigation relating to a potential improper or unofficial use of Government telephones or other illegal or improper activity by the primary record subject.

CATEGORIES OF RECORDS IN THE SYSTEM:

1. Records in the system of records related to telephone calls placed to and from FCC phones, and the assignment of telephone numbers to employees and the location of the telephone in the FCC. Since this system includes cellular telephones, any local call to or from a cellular telephone would be included.

2. The records may include such information as the number called from, the number called, time and date of the call, duration, disposition, and the cost of the call and/or charges accepted, and the FCC component to which the relevant telephone numbers are assigned.

3. The system may also include copies of related records, e.g., any periodic summaries which may have been compiled to reflect the total number of long distance calls.

4. The database(s) from which telephone numbers are retrieved contains the names of employees and their office locations, but no other personal identifiers such as social security numbers.

5. The CD-ROM files contain the agency telephone bills which provide details on all calls to and from the FCC telephones.

6. The paper files consist of a combination of the database and CD-ROM files.

7. Records in this system also include records of electronic equipment loaned to staff to use when their work requires them to work outside the office or to maintain close contact with the Commission staff, i.e., laptops, cellular telephones, and pagers.

8. These records would contain the following information:

(a) Individual's name, FCC I.D. badge number, and Bureau/Office;

(b) Loaned equipment's barcode number; serial number; model number; and modem number.

In each of these cases, the FCC will determine whether disclosure of the records is compatible with the purpose for which the records were collected.

AUTHORITY FOR MAINTENANCE OF THE SYSTEM:

1. 44 U.S.C. 3101, which authorizes agencies to create and preserve records documenting agency organizations, functions, procedures, and transactions;

2. 31 U.S.C. 1348b., which authorizes the use of appropriated funds to pay for long distance calls only if required for official business or necessary in the interests of the Government;

3. 47 U.S.C. 154(I), which authorizes the FCC to take actions necessary to execute its functions;

4. 5 CFR 2635.704a., which prohibits use of Government property for other than authorized purposes; and

5. 41 CFR 201-21.601 and 201-21.602, which require that the Government telecommunications systems be used for official purposes only, and authorizing agencies to collect for unauthorized calls.

PURPOSE(S):

1. This system of records is used to keep track of local and long-distance telephone calls placed to and from FCC phones, including cellular telephones and the records of the equipment loaned out and those who have borrowed it.

2. The telephone records may include such information as the number called from, the number called, time and date of the call, duration, disposition, the cost of the call and/or charges accepted, and the FCC component to which the relevant telephone numbers are assigned. By maintaining these records, the FCC can monitor the charges for long distance or cellular calls and also determine if such calls are being made for other than Commission-related purposes.

3. When wireless instruments are loaned, the individual staff must sign the FCC Wireless Telecommunications Statement of Understanding and fill out FCC Form A-476, Custodial Receipt for Sensitive FCC Property when the equipment loan is made.

4. The equipment loan records include the type of equipment borrowed, the borrower, and the duration of the loan.

ROUTINE USES OF RECORDS MAINTAINED IN THE SYSTEM, INCLUDING CATEGORIES OF USERS AND THE PURPOSES OF SUCH USES:

The FCC does not normally disclose records from this system of records. However, in the event it is appropriate, disclosure of relevant information may be made in accordance with the provisions of 5 U.S.C. 552(a)(b). Records and data may be disclosed as necessary pursuant to 5 U.S.C. 552(a)(b):

1. A record in this system of records may be disclosed to a member of Congress or to a Congressional staff member in response to an inquiry of the Congressional office made at the written request of the constituent about whom the record is maintained;

2. A record in this system of records may be disclosed to representatives of the General Services Administration or the National Archives and Records Administration who are conducting records management inspections under the authority of 44 U.S.C. 2904 and 2906;

3. A record in this system of records may be disclosed to the Department of Justice (DOJ) when:

(a) The agency or any component thereof; or any employee of the agency in his or her official capacity where the DOJ has agreed to represent the employee; or

(b) The United States Government is a party to litigation or has an interest in such litigation, and by careful review, the agency determines that the records are both relevant and necessary to the litigation and the use of such records by the DOJ is therefore deemed by the agency to be for a purpose that is compatible with the purpose for which the agency collected the records.

4. A record in this system of records may be disclosed to a court or adjudicative body in a proceeding when:

(a) The agency or any component thereof; any employee of the agency in his or her official capacity; or any employee of the agency in his or her official capacity where the agency has agreed to represent the employee; or

(b) The United States Government is a party to litigation or has an interest in such litigation, and by careful review, the agency determines that the records are both relevant and necessary to the litigation and the use of such records is therefore deemed by the agency to be for a purpose that is compatible with the purpose for which the agency collected the records.

5. A record in this system of records may be disclosed to law enforcement agencies when a record on its fact, or in conjunction with other records, indicates a violation or potential violation of the law, whether civil, criminal, or regulatory in nature, and whether arising by general statute or particular program statute, or by regulation, rule, or order issued pursuant thereto, disclosure may be made to the appropriate agency, whether Federal, foreign, state, local, or tribal, or other public authority responsible for enforcing, investigating, or prosecuting such violation or charged with enforcing or implementing the statute, or rule, regulation, or order issued pursuant thereto, if the information disclosed is relevant to any enforcement, regulatory, investigative, or prospective responsibility of the receiving entity;

6. A record in this system of records may be disclosed to agency contractors, grantees, experts, consultants, or volunteers who have been engaged by the agency to assist in the performance of a service related to this system of records and who need to have access to the records in order to perform the activity. Recipients shall be required to comply with the requirements of the Privacy Act of 1974, as amended, pursuant to 5 U.S.C. 552a (m);

7. A record in this system of records may be disclosed to the National Finance Center (the FCC's designated payroll office), the Department of the Treasury Debt Management Services and/or a current employer to effect a salary, IRS tax refund, or administrative offset to satisfy an indebtedness incurred for unofficial telephone and cellular calls; and to Federal agencies to identify and locate former employees for the purposes of collecting such indebtedness, including through administrative, salary, or tax refund offsets. Identifying and locating former employees, and the subsequent referral to such agencies for offset purposes, may be accomplished through authorized computer matching programs. Disclosures will be made only when all procedural steps established by the Debt Collection Act of 1982 and the Debt Collection Improvement Act of 1996 or the Computer Matching and Privacy Protection Act of 1988 as appropriate, have been taken;

8. A record in this system of records may be disclosed to a Federal, State, local, or foreign agency maintaining civil, criminal, or other relevant enforcement records, or other pertinent records, or to another public authority or professional organization, if necessary to obtain information relevant to an investigation concerning the retention of an employee or other personnel action (other than hiring), the retention of a security clearance, the letting of a contract, or the issuance or retention of a grant, or other benefit; and

9. A record in this system of records may be disclosed to a Federal, State, local, foreign, or tribal or other information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative, personnel, or regulatory action.

In each of these cases, the FCC will determine whether disclosure of the records is compatible with the purpose for which the records were collected.

POLICIES AND PRACTICES FOR STORING, RETRIEVING, ACCESSING, RETAINING, AND DISPOSING OF RECORDS IN THE SYSTEM:

STORAGE:

Records are maintained electronically in one of three databases (PCS, cellular telephones, and pagers), on paper, and on CD-ROM. The databases are password protected and updated daily. Authorized individuals can check the current databases during sign out when individuals leave the FCC to ensure that the departing staff has returned any loaned equipment.

RETRIEVABILITY:

Telephone call records are retrieved by bureau or office name, the employee name, name of recipient of telephone call, telephone number. Equipment loan records are retrieved by the employee name, equipment barcode number, serial number, and model or modem numbers.

SAFEGUARDS:

Paper and CD-ROM records are maintained in file cabinets in offices which are locked at the end of the business day. Information in the database is secured through controlled access and passwords restricted to administrative office personnel. Data resident on network servers are backed-up daily to magnetic media. One week's worth of back-up tapes is stored on-site in fireproof safes. Each week, the previous week's backup tapes are sent to an off-site storage location. A maximum of ten week's tapes are kept and cycled in this fashion.

RETENTION AND DISPOSAL:

Records are disposed of in accordance with General Records Schedule 12, National Archives and Records Administration.

SYSTEM MANAGER(S) AND ADDRESS:

Appropriate bureau or office chief and first line supervisors in the Federal Communications Commission, 445 12th Street, SW., Washington, DC 20554. See FCC telephone directory for a list of field office telephone numbers or the commercial telephone directory under “U.S. Government.”

NOTIFICATION PROCEDURE:

Ask for “Records Access Procedures” in making inquiries regarding this system. The inquiries should be addressed to the system manager, Office of Managing Director, Information Technology Center, Operations Group, Federal Communications Commission (FCC), 445 12th Street, SW., Washington, DC 20554.

RECORD ACCESS PROCEDURES:

Address inquiries to the system manager.

CONTESTING RECORD PROCEDURES:

Address inquiries to the system manager.

RECORD SOURCE CATEGORIES:

Telephone assignment records; call detail listings; results of administrative inquiries relating to assignment of responsibility for placement of specific long distance calls.

EXEMPTIONS CLAIMED FOR THE SYSTEM:

None.

FCC/Central-9

SYSTEM NAME:

Denial of Federal Benefits (Drug Debarment List).

SYSTEM LOCATION:

Financial Operations Center, Associate Managing Director—Financial Operations (AMD-FO), Office of Managing Director, Federal Communications Commission (FCC), 445 12th Street, SW., Room 1-A663, Washington, DC 20554.

CATEGORIES OF INDIVIDUALS COVERED BY THE SYSTEM:

Individuals convicted of offenses concerning the distribution or possession of controlled substances, who have been denied all Federal benefits or FCC benefits as part of their sentence pursuant to Section 5301 of the Anti-Drug Abuse Act of 1988, and who have also filed applications for any FCC professional or commercial license.

CATEGORIES OF RECORDS IN THE SYSTEM:

The records within this system will consist of a database provided to the FCC from the Department of Justice (DOJ) regarding individuals who have been denied all Federal benefits or FCC benefits pursuant to section 5301 of the Anti-Drug Abuse Act of 1988.

1. The data elements to be used by the FCC are: DOJ identification number (ID) for the person denied Federal benefits, Person's name, Taxpayer Identification Number (TIN), and Starting and ending date of the denial of Federal benefits.

2. All other data elements in the database will be immediately discarded.

3. When there is a match of name and TIN from the database with the name and address of an application on file with the FCC, the FCC will then obtain from DOJ additional data elements: Person's name, address, and zip code. If also required by the FCC application, the person's date of birth.

4. If manual comparison of the application information with the information obtained from DOJ confirms a match, the FCC will prepare a confirmation report to be attached to the application. The confirmation report will reflect the identifying information obtained from the DOJ debarment entry, but it will not include the DOJ ID number for that debarment entry. Upon such a match, the FCC will initiate correspondence with the applicant, which will also be associated with the application. The confirmation report and any correspondence with the applicant will be among the records found in this system.

AUTHORITY FOR MAINTENANCE OF THE SYSTEM:

Section 5301 of the Anti-Drug Abuse Act of 1988, Pub. L. 100-690, as amended by section 1002(d) of the Crime Control Act of 1990, Pub. L. 101-647 (21 U.S.C. 862), and sections 4(i) and 4(j) of the Communications Act of 1934 (47 U.S.C. 154(i) and 154(j)).

PURPOSE(S):

The records within the system will be used for the exchange of information between DOJ and the FCC in connection with the implementation of section 5301 of the Anti-Drug Abuse Act of 1988. This exchange of information permits the FCC to perform the General Services Administration (GSA) Debarment List check as provided for in the Office of National Drug Control Policy plan for implementation of section 5301 through use of information generated by DOJ. The automated records obtained from DOJ will only be used by the FCC to make an initial determination of whether an individual applicant is subject to a denial of all Federal benefits or FCC benefits imposed under section 5301 of the Anti-Drug Abuse Act of 1988.

ROUTINE USES OF RECORDS MAINTAINED IN THE SYSTEM, INCLUDING CATEGORIES OF USERS AND THE PURPOSES OF SUCH USES:

This system contains the following information: Department of Justice database provided to the FCC; the database retained by the FCC for use in the automated system; and the match reports; and any copies of the confirmation report that include the Department of Justice ID number will be routinely available for use or inspection by appropriate FCC officials.

The confirmation report (not including the DOJ ID Number) and any correspondence with the applicant will be associated with the applicant's application and will thus be made routinely available for public inspection.

In each case the FCC will determine whether disclosure of the records is compatible with the purpose for which the records were collected.

POLICIES AND PRACTICES FOR STORING, RETRIEVING, ACCESSING, RETAINING, AND DISPOSING OF RECORDS IN THE SYSTEM:

STORAGE:

Records are maintained electronically on a computer database.

RETRIEVABILITY:

Records are retrieved by supplying the following information: Name of applicant, TIN, address (in some instances) and zip code, date of birth (in some instances), and FCC fee control number for the application.

SAFEGUARDS:

The data are provided to the FCC by the U.S. Department of Justice (DOJ) and will be protected from tampering, unauthorized disclosure, and will follow these procedures:

1. The database will be processed to extract the information to be used in the automated system, and the data elements not being used in the automated system will be electronically erased. The remaining data will be maintained at the main FCC building with a low risk of unauthorized access.

2. Access points are photo-monitored by security personnel; all employees are required to display photo ID badges; and all visitors must register and wear a visitor's badge. Access to the computer system on which the extracted database is stored requires use of a unique user ID with personal identifier, which is controlled through application and operating system security.

3. The extracted database is stored in a separate file in that system, and a separate password is required for entry to that file. The password is available to a limited number of persons based strictly on a “need to know” basis.

4. The reports of any automated matches containing the DOJ ID number will be made available only to the appropriate FCC officials.

RETENTION AND DISPOSAL:

1. The match reports will be retained by the FCC for only as long as it is necessary to obtain the debarment entry information and corresponding application for manual confirmation of the match. Thereafter, they will be destroyed. However, periodically, a match report will be randomly retained for a period of an additional 90 to 120 days to provide a quality check of the verification process.

2. Where the verification process establish that a match does not indicate that the applicant has been denied Federal benefits under section 5301, the debarment entry information used in that determination will be retained by the FCC for 30 days after the application has cleared the debarment check. However, as noted above, debarment entry information relating to match reports that are retained for quality control purposes will be retained until that quality check is completed.

3. Where a match is confirmed by the manual verification process, the debarment entry information will be retained for a period of at least 90 days after the date of the letter referred to above. If the application contests the determination that a section 5301 denial of Federal benefits bars a grant of the application, the debarment entry information will be retained until such time as the FCC's action on the application is no longer subject to review in any court.

SYSTEM MANAGER(S) AND ADDRESS:

Associate Managing Director-Financial Operations (AMD-FO), Managing Director, Office of Managing Director, Federal Communications Commission (FCC), 445 12th Street, SW., Washington, DC 20554.

NOTIFICATION PROCEDURE:

Address inquiries to the AMD-FO.

RECORD ACCESS PROCEDURES:

Address inquiries to the AMD-FO.

CONTESTING RECORD PROCEDURES:

Address inquiries to the AMD-FO.

RECORD SOURCE CATEGORIES:

Individuals making applications who have been convicted of certain drug offenses and who have been denied all Federal benefits or FCC benefits as part of their sentence.

EXEMPTIONS CLAIMED FOR THE SYSTEM:

None.

FCC/Central-10

SYSTEM NAME:

Access Control System.

SYSTEM LOCATION:

Office of the Managing Director, Security Operations Center, Federal Communications Commission (FCC), 445 12th Street, SW., Room 1-B458, Washington, DC 20554.

CATEGORIES OF INDIVIDUALS COVERED BY THE SYSTEM:

Current FCC employees, current contractors, frequent visitors, visitors, temporary hires, special parking access and day contractor.

CATEGORIES OF RECORDS IN THE SYSTEM:

The system consists of computer databases, with all records containing the last and first name, filed alphabetically by last name, with a corresponding Badge Number.

1. The FCC employee/temporary hire database will include: First and last name, Telephone number, Bureau/Office, (Supervisor—delete), Room number, Date of issuance, and Parking (permit—delete) privilege (number—delete), if applicable, and property pass privilege if applicable.

2. The contractor database will include: First and last name, Contractor company name, Telephone number, FCC point of contact, Telephone number, and Date of issuance.

3. The Frequent Visitor's database will include: First and last name, Employer's name, Address, Telephone number, Point of contact at the employer, and Date of issuance.

4. The Visitor/day contractor database will include: First and last name along with numerical identifier.

5. The Special Parking Access database will include: First and last name, Telephone number, Employer, and Date of issuance.

Note: Proof of identity required through photographic identification is necessary prior to issuance of the contractor badge and the frequent visitor's badge and visitor's badge.

AUTHORITY FOR MAINTENANCE OF THE SYSTEM:

Presidential Directive based on Department of Justice report entitled “Vulnerability Assessment of Federal Facilities.”

PURPOSE(S):

This system provides a method by which the FCC can control and account for all persons entering the Commission's facilities and by which the FCC may ascertain the times persons were in these facilities.

ROUTINE USES OF RECORDS MAINTAINED IN THE SYSTEM, INCLUDING CATEGORIES OF USERS AND THE PURPOSES OF SUCH USES:

1. Where there is an indication of a violation or potential of a statute, regulation, rule, or order, records from this system may be referred to the appropriate Federal, state, or local agency responsible for investigating or prosecuting a violation or for enforcing or implementing the statute, rule, regulation, or order.

2. A record from this system may be disclosed to a request for information from a Federal, state, or local agency maintaining civil, criminal, or other relevant information or other pertinent information if necessary to obtain information relevant to an investigation.

3. A record on an individual in this system of records may be disclosed to a Congressional office in response to an inquiry the individual has made to the Congressional office.

4. A record from this system of records may be disclosed to GSA and NARA for the purpose of records management inspections conducted under authority of 44 U.S.C. 2904 and 2906. Such disclosure shall not be used to make a determination about individuals.

5. Records from this system may be disclosed to FCC supervisors or management representatives to ascertain (either confirm or refute) the times employees were in the facility.

In each of these cases the FCC will determine whether disclosure of the records is compatible with the purpose for which the records were collected.

POLICIES AND PRACTICES FOR STORING, RETRIEVING, ACCESSING, RETAINING, AND DISPOSING OF RECORDS IN THE SYSTEM: STORAGE:

Records are maintained in a password protected computer database.

RETRIEVABILITY:

Records are retrieved by the name of the individual on whom they are maintained by a limited number of authorized individuals.

SAFEGUARDS:

The computer terminals are stored within a secured area. The Security Office staff performs a backup operation on these files on a weekly—monthly basis on ¼″ data cartridge, which are stored/safeguarded in the Security Office.

RETENTION AND DISPOSAL:

1. When an employee/contractor/temporary hire/special parking access leaves the FCC, the file in the database is deleted.

2. Frequent visitor badges are given a two-year valid period, after which the card will automatically deactivate.

3. All returned visitor/day contractor cards will be reused on a daily basis.

4. Transaction data for all cards will be placed on backup discs and stored for one year in the FCC Security Office which is locked and alarmed.

SYSTEM MANAGER(S) AND ADDRESS:

Security Operations Center, Office of Managing Director, Federal Communications Commission (FCC), 445 12th Street, SW., Room 1-B458, Washington, DC 20554.

NOTIFICATION PROCEDURE:

Individuals wishing to inquire whether this system of records contains information about them should contact the system manager indicated above. Individuals must furnish their “Full Name” for their records to be located and identified.

RECORD ACCESS PROCEDURES:

Individuals wishing to request access to records about them should contact the system manager indicated above. Individuals must furnish their “Full Name” for their record to be located and identified. An individual requesting access must also follow FCC Privacy Act regulations regarding verification of identify and access to records. See 47 CFR 0.554-0.555.

CONTESTING RECORD PROCEDURES:

Individuals wishing to request amendment of their records should contact the system manager indicated above. Individuals must furnish their “Full Name” for their record to be located and identified. An individual requesting amendment must also follow the FCC Privacy Act regulations regarding verification of identity and amendment of records. See 47 CFR 0.556-0.557.

RECORD SOURCE CATEGORIES:

The individual to whom the information applies.

EXEMPTIONS CLAIMED FOR THE SYSTEM:

None.

FCC/Central-11

SYSTEM NAME:

Inter-office (GroupWise) and Internet E-mail Systems.

SYSTEM LOCATION:

Information Technology Center, Office of the Managing Director, Federal Communications Commission (FCC), 445 12th Street, SW., Room 1-C266, Washington, DC 20554.

CATEGORIES OF INDIVIDUALS COVERED BY THE SYSTEM:

Employees and contractors of the Federal Communications Commission in Washington, DC and the field offices.

CATEGORIES OF RECORDS IN THE SYSTEM:

Records in this system of records include the names, e-mail addresses, and passwords of all FCC employees and contractors.

AUTHORITY FOR MAINTENANCE OF THE SYSTEM:

1. Executive Orders 10450 and 12065;

2. 44 U.S.C. 3101, which authorizes agencies to create and preserve records documenting agency organizations, functions, procedures, and transactions;

3. 47 U.S.C. 154(i), which authorizes the FCC to take actions necessary to execute its functions;

4. 5 CFR 2635.704a., which prohibits use of Government property for other than authorized purposes; and

5. 41 CFR 201-21.601 and 201-21.602, which require that the Government Radio systems be used for official purposes only.

PURPOSE(S):

These records are maintained by the Information Technology Center staff to identify all users on the FCC's Inter-office and Internet E-mail systems, their locations, and their passwords. This information is necessary to insure that all users abide by the FCC's Intranet and Internet regulations and to identify possible abusers.

ROUTINE USES OF RECORDS MAINTAINED IN THE SYSTEM, INCLUDING CATEGORIES OF USERS AND THE PURPOSES OF SUCH USES:

Information in this system of records may be disclosed for the following reasons:

1. For disclosure to a Federal agency or the District of Columbia Government, in response to its request, in connection with the hiring or retention of an employee, the issuance of a security clearance, the conducting of a security or suitability investigation of an individual, the classifying of jobs, the letting of a contract, or the issuance of a license, grant, or other benefit by the requesting agency.

2. For disclosure to the security officer of an agency in the executive, legislative, or judicial branch, or the District of Columbia Government, in response to its request for verification of security clearances, of FCC employees/contractors to have access to classified data or areas where their official duties require such access.

3. Where there is an indication or a violation or potential violation of a statute, regulation, rule, order may be referred to the appropriate Federal, state, or local agency responsible for investigating or prosecuting a violation or for enforcing or implementing the statute, rule, regulation or order.

4. A record from this system may be disclosure to request information from a Federal, state, local or foreign agency maintaining civil, criminal, or other relevant enforcement information, or other pertinent information records, or to another public authority or professional organization, if necessary to obtain information relevant to an investigation concerning the retention of an employee or other personnel action (other than hiring), the retention of a security clearance, the letting of a contract, or the issuance of a grant or other benefit.

5. A record on an individual in this system of records may be disclosed to a Congressional office in response to an inquiry the individual has made to a Congressional office.

6. A record from this system of records may be disclosed to GSA and NARA for the purpose of records management inspections conducted under authority of 44 U.S.C. 2904 and 2906. Such disclosure shall not be used to make a determination about individuals.

In each of these cases, the FCC will determine whether disclosure of the records is compatible with the purpose for which the records were collected.

POLICIES AND PRACTICES FOR STORING, RETRIEVING, ACCESSING, RETAINING, AND DISPOSING OF RECORDS IN THE SYSTEM: STORAGE:

Records are maintained in an electronic database.

RETRIEVABILITY:

Records are retrieved by bureau or office name and the employee name and log-in name.

SAFEGUARDS:

Information in the database is secured through controlled access and passwords restricted to administrative office personnel. Data resident on network servers are backed-up daily to magnetic media. One week's worth of back-up tapes is stored on-site in fireproof safes. Each week, the previous week's backup tapes are sent to an off-site storage location. A maximum of ten week's tapes are kept and cycled in this fashion.

RETENTION AND DISPOSAL:

Records are until the employee or contract retires or leaves the FCC. The records are then disposed of in accordance with General Records Schedule 12, National Archives and Records Administration (NARA).

SYSTEM MANAGER(S) AND ADDRESS:

Operations Group, Office of Managing Director, Federal Communications Commission (FCC), 445 12th Street, SW., Room 1-C734, Washington, DC 20554.

NOTIFICATION PROCEDURE:

Ask for “Records Access Procedures” in making inquiries regarding this system. The inquiries should be addressed to the system manager, Office of Managing Director, Information Technology Center, Operations Group, Federal Communications Commission (FCC), 445 12th Street, SW., 1-C266, Washington, DC 20554.

RECORD ACCESS PROCEDURES:

Same as above.

CONTESTING RECORD PROCEDURES:

Same as above.

RECORD SOURCE CATEGORIES:

Same as above.

EXEMPTIONS CLAIMED FOR THE SYSTEM:

None.

FCC/Central-12

SYSTEM NAME:

Garnishment and Levy of Wages.

SYSTEM LOCATION:

Associate Managing Director, Human Resources Management, Office of the Managing Director, Federal Communications Commission (FCC), 445 12th Street, SW., Room 1-B104, Washington, DC 20554.

CATEGORIES OF INDIVIDUALS COVERED BY THE SYSTEM:

Any Commission employee who is the subject of a garnishment or levy order issued by a court of competent jurisdiction or by another government entity authorized to issue such order.

CATEGORIES OF RECORDS IN THE SYSTEM:

Garnishment of levy orders served upon the agency for implementation, correspondence, memoranda.

AUTHORITY FOR MAINTENANCE OF THE SYSTEM:

5 U.S.C. 301.

PURPOSE(S):

Records are used by staff attorneys in the General Counsel's office in directing the agency's implementation of garnishment and levy orders.

ROUTINE USES OF RECORDS MAINTAINED IN THE SYSTEM, INCLUDING CATEGORIES OF USERS AND THE PURPOSES OF SUCH USES:

1. Where there is an indication of a violation or potential violation of a statute, regulation, rule, or order, records from this system may be referred to the appropriate Federal, state, or local agency responsible for investigating or prosecuting a violation or for enforcing or implementing the statute, rule regulation, or order.

2. A record on an individual in this system or records may be disclosed, where pertinent, in any legal proceeding to which the Commission is a party before a court or administrative body.

3. A record from this system of records may be disclosed to the Department of Justice or in a proceeding before a court or adjudicative body when:

(a) The United States, the Commission, a component of the Commission, or, when represented by the government, an employee of the Commission is a party to litigation or anticipated litigation or has an interest in such litigation, and

(b) The Commission determines that the disclosure is relevant or necessary to the litigation.

4. A record in this system of records which concerns information on pay and leave, benefits, retirement deductions, and any other pertinent information may be disclosed to the Office of Personnel Management in order for it to carry out its legally authorized Government-wide functions and duties.

In each of these cases, the FCC will determine whether disclosure of the records is compatible with the purpose for which the records were collected.

POLICIES AND PRACTICES FOR STORING, RETRIEVING, ACCESSING, RETAINING, AND DISPOSING OF RECORDS IN THE SYSTEM:

STORAGE:

Paper records are stored in file folders.

RETRIEVABILITY:

Records are maintained by the name of the individual subject to garnishment or levy order.

SAFEGUARDS:

Records are kept in file cabinets in offices that are secured at the end of each business day. Because only one or two office persons have need to routinely access this system, unauthorized examinations would be easily detected.

RETENTION AND DISPOSAL:

Records are normally retained as long as the Commission remains under the obligation to implement the particular garnishment or levy order.

SYSTEM MANAGER(S) AND ADDRESS:

Associate Managing Director, Human Resources Management, Office of the Managing Director, Federal Communications Commission (FCC), 445 12th Street, SW Room 1-B104, Washington, DC. 20554.

NOTIFICATION PROCEDURE:

Address inquiries to the system manager.

RECORD ACCESS PROCEDURE:

Address inquiries to the system manager.

CONTESTING RECORD PROCEDURES:

Address inquiries to the system manager.

RECORD SOURCE CATEGORIES:

Bankruptcy courts, state domestic relations courts, state public health and welfare departments or agencies, Internal Revenue Service, and intra-agency memoranda.

EXEMPTIONS CLAIMED FOR THE SYSTEM:

None.

FCC/CIB-1

SYSTEM NAME:

Informal Complaints and Inquiries File (Broadcast, Common Carrier, and Wireless Telecommunications Bureau Radio Services).

SYSTEM LOCATION:

Chief, Consumer Information Bureau, Room 5-C345, Federal Communications Commission (FCC), 445 12th Street, SW Washington, DC. 20554.

CATEGORIES OF INDIVIDUALS COVERED BY THE SYSTEM:

Individuals and groups who have made written complaints and/or general inquiries to, and/or are parties to informal complaints proceedings on matters under the Communications Act of 1996.

CATEGORIES OF RECORDS IN THE SYSTEM:

The records in this system include both computerized information contained in a database and paper copies of inquiries, informal complaints, and related supporting information, company replies to complaints, letters of inquiry, and Commission letters regarding such complaints made by individuals, groups, or other entities pertaining to the FCC's bureaus and offices.

AUTHORITY FOR MAINTENANCE OF THE SYSTEM:

47 U.S.C. 206, 208, 301, 303, 309(e), 312, 362, 364, 386, 507, and 51; and 47 CFR 1.711 et seq.

PURPOSE(S):

The records in this system of records are used by Commission personnel to handle and process complaints and inquiries received from individuals, groups, and other entities pertaining to FCC related matters. Records in this system are available for public inspection after redaction of information which could identify the complainant or correspondent, i.e., name, address and/or telephone number.

ROUTINE USES OF RECORDS MAINTAINED IN THE SYSTEM, INCLUDING CATEGORIES OF USERS AND THE PURPOSES OF SUCH USES:

This system of records is used by Commission personnel to handle and process complaints received from individuals and companies.

1. When a record in this system involves a complaint against a common carrier, the complaint is forwarded to the defendant carrier who must, within a prescribed time frame, either satisfy the complaint or explain to the Commission and the complainant its failure to do so.

2. Where there is an indication of a violation or potential violation of a statute, regulation, rule, or order, records from this system may be referred to the appropriate Federal, state, or local agency responsible for investigating or prosecuting a violation or for enforcing or implementing the statute, rule, regulation, or order.

3. A record from this system may be disclosed to a Federal agency, in response to its request, in connection with the hiring or retention of an employee, the issuance of a security clearance, the reporting of an investigation of an employee, the letting of a contract, or the issuance of a license, grant or other benefit.

4. A record on an individual in this system of records may be disclosed, where pertinent, in any legal proceeding to which the Commission is a party before a court or administrative body.

5. A record from this system of records may be disclosed to the Department of Justice or in a proceeding before a court or adjudicative body when:

(a) The United States, the Commission, a component of the Commission, or, when represented by the government, an employee of the Commission is a party to litigation or anticipated litigation or has an interest in such litigation, and

(b) The Commission determines that the disclosure is relevant or necessary to the litigation.

6. A record on an individual in this system of records may be disclosed to a Congressional office in response to an inquiry the individual has made to the Congressional office.

7. A record from this system of records may be disclosed to GSA and NARA for the purpose of records management inspections conducted under authority of 44 U.S.C. 2904 and 2906. Such disclosure shall not be used to make a determination about individuals.

In each of these cases, the FCC will determine whether disclosure of the records is compatible with the purpose for which the records were collected.

POLICIES AND PRACTICES FOR STORING, RETRIEVING, ACCESSING, RETAINING, AND DISPOSING OF RECORDS IN THE SYSTEM:

STORAGE:

Paper copies of records in this system of records are maintained in file folders and electronic files are located in computer databases on the FCC network.

RETRIEVABILITY:

Records are retrieved by individual name, party name, licensee, applicant or unlicensed individual, call sign, or file number.

SAFEGUARDS:

Records are stored in unlocked files which are secured in the office at the close of the business day. Access to computer records is controlled by password. Data resident on network servers are backed-up daily to magnetic media. One week's worth of back-up tapes is stored on-site in fireproof safes. Each week, the previous week's backup tapes are sent to an off-site storage location. A maximum of ten week's tapes are kept and cycled in this fashion.

RETENTION AND DISPOSAL:

The records are retained in the Commission and then destroyed five years after final action in accordance with the appropriate records retention schedule.

SYSTEM MANAGER(S) AND ADDRESS:

Chief, Consumer Information Bureau, Federal Communications Commission, 445 12th Street, Room 5-C345, SW., Washington, DC. 20554.

NOTIFICATION PROCEDURE:

Address inquiries to the system manager.

RECORD ACCESS PROCEDURES:

Address inquiries to the system manager. An individual requesting access must follow FCC Privacy Act regulations regarding verification of identity and amendment of records. See 47 CFR 0.556-0.557.

CONTESTING RECORD PROCEDURES:

Address inquiries to the system manager.

RECORD SOURCE CATEGORIES:

Complaints and subject carriers.

EXEMPTIONS CLAIMED FOR THE SYSTEM:

None.

FCC/CIB-4

SYSTEM NAME:

Telephone and Electronic Contacts.

SYSTEM LOCATION:

Consumer Information Network Division, Consumer Information Bureau, Federal Communications Commission (FCC), 445 12th Street, SW., Washington, DC 20554 and 1270 Fairfield Road, Gettysburg, Pennsylvania 17325.

CATEGORIES OF INDIVIDUALS COVERED BY THE SYSTEM:

This system of records includes individuals or entities who have made complaints or inquiries.

CATEGORIES OF RECORDS IN THE SYSTEM:

This system of records includes complaints and related information, company or business replies to complaints, letters of inquiry, and Commission letters regarding or responding to such complaints and inquiries.

AUTHORITY FOR MAINTENANCE OF THE SYSTEM:

Sec. 4(i) and (j) of the Communications Act of 1934, as amended, 47 U.S.C. 154 (i) and (j).

PURPOSE(S):

These records are used by the FCC staff to handle, respond, and process inquiries and complaints received from individuals, companies, and other entities.

ROUTINE USES OF RECORDS MAINTAINED IN THE SYSTEM, INCLUDING CATEGORIES OF USERS AND THE PURPOSES OF SUCH USES:

1. Where there is an indication of a violation or potential violation of any statute, regulation, rule, or order, records from this system may be referred and disclosed to the appropriate Federal, state, or local agency responsible for investigating or prosecuting a violation or for enforcing or implementing the statute, rule, regulation, or order.

2. A record on an individual in this system of records may be disclosed, where pertinent, in any legal proceeding to which the FCC is a party before a court or any other administrative body.

3. A record from this system of records may be referred and disclosed to the Department of Justice or in a proceeding before a court or any adjudicative body when:

(a) The United States, the FCC, a component of the FCC, or, when represented by the government, an employee of the FCC, is a party to litigation or anticipated litigation or has an interest in such litigation, and

(b) the FCC determines that the disclosure is relevant or necessary to the litigation.

In each of these cases, the FCC will determine whether disclosure of the records is compatible with the purpose for which the records were collected.

POLICIES AND PRACTICES FOR STORING, RETRIEVING, ACCESSING, RETAINING, AND DISPOSING OF RECORDS IN THE SYSTEM:

STORAGE:

Records are maintained in computer databases on the FCC's internal network.

RETRIEVABILITY:

Records are retrieved by telephone number, name of caller, address, subject, or reason for call.

SAFEGUARDS:

The computer systems are stored within secured areas. Data resident on network servers are backed-up daily to magnetic media. One week's worth of back-up tapes is stored on-site in fireproof safes. Each week, the previous week's backup tapes are sent to an off-site storage location. A maximum of ten week's tapes are kept and cycled in this fashion.

RETENTION AND DISPOSAL:

The records are retained in the FCC and then destroyed according to the appropriate records schedule.

SYSTEM MANAGER(S) AND ADDRESS:

Chief, Consumer Information Network Division, Consumer Information Bureau, Federal Communications Commission (FCC), 1270 Fairfield Road, Gettysburg, Pennsylvania 17325, and 445 12th Street, SW., Room 5-C345, Washington, DC.

NOTIFICATION PROCEDURE:

Address inquiries to the system manager.

RECORD ACCESS PROCEDURES:

Address inquiries to the system manager. An individual requesting access must follow FCC Privacy Act regulations regarding verification of identity and amendment of records. See 47 CFR 0.556-0.557.

CONTESTING RECORD PROCEDURES:

Address inquiries to the system manager. Individuals requesting access must also follow FCC Privacy Act regulations regarding verification of identity and access to records. See 47 CFR 0.554-0.555.

RECORD SOURCE CATEGORIES:

The individual to whom the information applies.

EXEMPTIONS CLAIMED FOR THE SYSTEM:

None.

FCC/EB-1

SYSTEM NAME:

Violators File (records kept on individuals who have been subjects of FCC field enforcement actions).

SYSTEM LOCATION:

Primary: Enforcement Bureau, Room 7-C732, Federal Communications Commission (FCC), 445 12th Street, SW., Washington, DC 20554.

Secondary: Various field facilities (See FCC telephone directory for field office addresses, or locate local office in commercial telephone directory under “U.S. Government.”).

CATEGORIES OF INDIVIDUALS COVERED BY THE SYSTEM:

1. Individuals who have been subjects of FCC field enforcement actions (monitoring, inspection, and/or investigation) for violations of radio law, FCC Rules and Regulations, or International Treaties.

2. Licensees, applicants, and unlicensed persons under parts 80, 87, 90, 94, 95, and 97 of the rules about whom there are questions of compliance with the Commission's rules or the Communications Act of 1934, as amended.

CATEGORIES OF RECORDS IN THE SYSTEM:

Inspection reports, complaints, monitoring reports, investigative cases, referral memos, correspondence, discrepancy notifications, warning notices and forfeiture actions.

AUTHORITY FOR MAINTENANCE OF THE SYSTEM:

47 U.S.C. 101, 102, 104, 301, 303, 309(e), 312, 315, 318, 362, 364, 386, 401, 404, 501, 502, 503, 507, and 510.

PURPOSE(S):

1. For use in connection with the Commission's field enforcement programs to determine levels of compliance among radio users; to issue marine certificates of compliance; to document Commission monitoring inspections and investigations for enforcement purposes; to provide a basis for various administrative, civil, or criminal sanction actions taken against violators by the EB or other appropriate Commission bureaus or offices.

2. Limited information elements are transferred to the Commission's central computer facility and to EB field facilities to maintain a cross-reference, which prevents duplication of enforcement actions, and to track the progress of enforcement cases. Copies of Commission sanction actions are available for public inspection.

ROUTINE USES OF RECORDS MAINTAINED IN THE SYSTEM, INCLUDING CATEGORIES OF USERS AND THE PURPOSES OF SUCH USES:

1. If the records indicate a possible violation of law, they may be referred, as a routine use, to the appropriate agency charged with the responsibility of investigating or prosecuting such violation or charged with enforcing the applicable statutes or rules.

2. Where there is an indication of a violation or potential violation of a statute, regulation, rule, or order, records from this system may be referred to the appropriate Federal, state, or local agency responsible for investigating or prosecuting a violation or for enforcing or implementing the statute, rule, regulation or order.

3. A record from this system may be disclosed to request information from a Federal, state, or local agency maintaining civil, criminal, or other relevant enforcement information or other pertinent information, such as licenses, if necessary to obtain information relevant to a Commission decision concerning the hiring or retention of an employee, the issuance of a security clearance, the letting of a contract, or the issuance of a license, grant or other benefit.

4. A record from this system may be disclosed to a Federal state, or local agency maintaining civil, criminal, or other relevant enforcement information or other pertinent information, such as licenses, if necessary to obtain information relevant to a Commission decision concerning the hiring or retention of an employee, the issuance of a security clearance, the reporting of an investigation of an employee, the letting of a contract, or the issuance of a license, grant, or other benefit.

5. A record on an individual in this system of records may be disclosed to a Congressional office in response to an inquiry the individual has made to the Congressional office.

6. A record from this system of records may be disclosed to GSA and NARA for the purpose of records management inspections conducted under authority of 44 U.S.C. 2904 and 2906. Such disclosure shall not be used to make a determination about individuals.

7. A record on an individual in this system of records may be disclosed, where pertinent, in any legal proceeding to which the Commission is a party before a court or administrative body.

8. A record from this system of records may be disclosed to the Department of Justice or in a proceeding before a court or adjudicative body when:

(a) The United States, the Commission, a component of the Commission, or, when represented by the government, an employee of the Commission is a party to litigation or anticipated litigation or has an interest in such litigation, and

(b) The Commission determines that the disclosure is relevant or necessary to litigation.

In each of these cases, the FCC will determine whether disclosure of the records is compatible with the purpose for which the records were collected.

POLICIES AND PRACTICES FOR STORING, RETRIEVING, ACCESSING, RETAINING, AND DISPOSING OF RECORDS IN THE SYSTEM:

STORAGE:

Information is stored in file folders, a computer database, and computer printout.

RETRIEVABILITY:

All records are retrievable by name or by FCC-issued call sign.

SAFEGUARDS:

Paper records are kept in file cabinets in offices that are secured at the end of each business day. Access to information in the computer database is restricted by use of passwords and location of terminals in rooms which are designated non-public areas. The rooms are secured outside of business hours. Data resident on network servers are backed-up daily to magnetic media. One week's worth of back-up tapes is stored on-site in fireproof saves. Each week, the previous week's backup tapes are sent to an off-site storage location. A maximum of ten week's tapes are kept and cycled in this fashion.

RETENTION AND DISPOSAL:

The documentation portions of these records are retained for three years after the case is closed, and then destroyed. All violation notices are maintained for a period of four years, then destroyed. (Classified material is destroyed by burning or shredding.)

SYSTEM MANAGER(S) AND ADDRESS:

Chief, Enforcement Bureau, Room 7-C732, Federal Communications Commission (FCC), 445 12th Street, SW., Washington, DC 20554.

NOTIFICATION, RECORD ACCESS AND CONTESTING PROCEDURES:

This system is exempt from the requirement that the agency publish the procedures for notifying an individual, at his or her request, if the system contains a record pertaining to him/her, for gaining access to such record, and for contesting the contents of the record.

RECORD SOURCE CATEGORIES:

This system is exempt from the requirement that the agency publish the categories of sources of records in this system.

EXEMPTIONS CLAIMED FOR THE SYSTEM:

This system of records is exempt from subsections (c)(3), (d), (e)(1), (e)(4), (G), (H), (I), and (f) of the Privacy Act and from §§ 0.544-0.567 of FCC rules. Those provisions concern the notification, access, and contesting procedures described above as well as the publication of record sources. The system is exempt from these provisions because it is maintained in connection with the provision of protective services to certain individuals as defined in section (k)(3) of the Privacy Act and for law enforcement purposes as defined in section (k)(2) of the Privacy Act.

FCC/EB-2

SYSTEM NAME:

State and Operational Areas Emergency Commission Committee Membership.

SYSTEM LOCATION:

Enforcement Bureau, Federal Communications Commission (FCC), 445 12th Street, SW., Room 7-C732, Washington, DC 20554.

CATEGORIES OF INDIVIDUALS COVERED BY THE SYSTEM:

Chairman and Vice Chairman of State and Operational Area Emergency Communications Committees.

CATEGORIES OF RECORDS IN THE SYSTEM:

Information showing individual name, business address, business telephone number, and title.

AUTHORITY FOR MAINTENANCE OF THE SYSTEM:

Federal Advisory Committee Act, 5 U.S.C. appendix 2.

ROUTINE USES OF RECORDS MAINTAINED IN THE SYSTEM, INCLUDING CATEGORIES OF USERS AND THE PURPOSES OF SUCH USES:

(1) Records in this system are used to forward the appropriate information to State Committee members, each broadcast station in the State, and to Federal, State, and local government officials for Emergency Communications planning. All information in this system will be available for public inspection.

In each case, the FCC will determine whether disclosure of the records is compatible with the purpose for which the records were collected.

POLICIES AND PRACTICES FOR STORING, RETRIEVING, ACCESSING, RETAINING, AND DISPOSING OF RECORDS IN THE SYSTEM: STORAGE:

File folders.

RETRIEVABILITY:

Records are filed by state and by name of committee member within the state.

SAFEGUARDS:

Records are maintained in file cabinets which are locked at the end of each business day.

RETENTION AND DISPOSAL:

Records are retained indefinitely while the individual is a member of the committee; when member resigns, individual file materials are destroyed.

SYSTEM MANAGER(S) AND ADDRESS:

Chief, Enforcement Bureau, Federal Communications Commission (FCC), 445 12th Street, SW., Room 7-C732, Washington, DC 20554.

NOTIFICATION PROCEDURE:

Address inquiries to the system manager. Name of the state must be provided with any request for information.

RECORD ACCESS PROCEDURE:

Same as above.

CONTESTING RECORD PROCEDURES:

Same as above.

RECORD SOURCE CATEGORIES:

Committee member.

EXEMPTIONS CLAIMED FOR THE SYSTEM:

None.

FCC/OET-1

SYSTEM NAME:

Experimental Radio Station License Files.

SYSTEM LOCATION:

Office of Engineering and Technology, Federal Communications Commission (FCC), 445 12th Street, SW., Room 7-A303, NW., Washington, DC 20554.

CATEGORIES OF INDIVIDUALS COVERED BY THE SYSTEM:

Those who have been granted a license to operate an experimental radio station under part 5 of the Commission's rules.

CATEGORIES OF RECORDS IN THE SYSTEM:

1. This system includes the following FCC Forms, any supporting exhibits submitted by the applicant(s), and related documentation:

(a) FCC Form 422, Application for a New or Modified Station;

(b) FCC Form 405, Application for Renewal of Station License;

(c) FCC Form 702, Application for Consent to Assignment of Radio Station Construction Authorization or License;

(d) FCC Form 703, Application for Consent to Transfer Control of Corporation Holding Station License; and

(e) Any supporting exhibits submitted by the applicant(s).

2. This system of records may include experimental project reports submitted by the applicant as required by FCC rules, part 5.

3. The system also includes comments from other Commission bureaus on interference potential of operation.

AUTHORITY FOR MAINTENANCE OF THE SYSTEM:

47 U.S.C. 308; 47 CFR part 5.

PURPOSE(S):

To make a determination of applicant's eligibility to operate a station in the experimental radio service; to determine interference potential to other radio services within the Commission, to determine if the project of experimentation is valid, as well as possible use in rulemakings.

ROUTINE USES OF RECORDS MAINTAINED IN THE SYSTEM, INCLUDING CATEGORIES OF USERS AND THE PURPOSES OF SUCH USES:

1. Information from this system may be disclosed to other FCC bureaus, Federal agencies, or to the public, in response to a request, in connection with new experimentation being conducted and the impact that this experimentation may have on the public. The information may not be disclosed if it is not routinely available for public inspection under § 0.457 of the Commission's rules, 47 CFR 0.459, or a request that the information be given confidential treatment is granted under § 0.459 of the Commission's rules, 47 CFR 0.459.

In each case the FCC will determine whether disclosure of the records is compatible with the purpose for which the records were collected.

POLICIES AND PRACTICES FOR STORING, RETRIEVING, ACCESSING, RETAINING, AND DISPOSING OF RECORDS IN THE SYSTEM:

STORAGE:

Paper records in file folders, electronically scanned images of paper records, electronic records of data elements of both paper-file and electronically filed applications, and electronic copies of licenses granted after November 16, 1998.

RETRIEVABILITY:

1. Paper files are retrieved by license name. If there are more than one station per licensee, then the files may also be retrieved by call sign.

2. Scanned images, electronic records of data elements and electronic copies of licenses may be retrieved from the OET Experimental Licensing Branch Reports World Wide Web site, accessed from the main FCC Web page: http://www.fcc.gov, by clicking the link labeled “Electronic Filing,” and then clicking the link labeled “OET Experimental Licensing Branch Reports.”

SAFEGUARDS:

All files are available to the public except classified files and files that have been granted confidentiality under 47 CFR 0.457 of the Commission rules. Classified files are kept in locked cabinets in accordance with security regulations. Files which have been granted confidentiality under 47 CFR 0.457 are marked “NOT FOR PUBLIC INSPECTION” and may only be accessed by Commission employees who have a need to know the information. Files which have been granted confidentiality under 47 CFR 0.457 are not accessible over the Internet. Data resident on network servers are backed-up daily to magnetic media. One week's worth of back-up tapes is stored on-site in fireproof saves. Each week, the previous week's backup tapes are sent to an off-site storage location. A maximum of ten week's tapes are kept and cycled in this fashion.

RETENTION AND DISPOSAL:

Records are maintained in the office. They are destroyed two years after expiration of the license.

SYSTEM MANAGER(S) AND ADDRESS:

Chief, Experimental Licensing Branch, Office of Engineering and Technology, Federal Communications Commission, 445 12th Street, SW., Room 7-A267, Washington, DC 20554.

NOTIFICATION PROCEDURE:

Address inquiries to the system manager.

RECORDS ACCESS PROCEDURES:

Address inquiries to the system manager.

CONTESTING RECORD PROCEDURES:

Address inquiries to the system manager.

RECORD SOURCE CATEGORIES:

The majority of information in these records comes from the individual. Other information comes from coordination with other FCC bureaus and from that which is generated with the Spectrum Coordination Branch during the normal processing of the application.

EXEMPTIONS CLAIMED FOR THE SYSTEM:

None.

FCC/OGC-2

SYSTEM NAME:

Attorney Misconduct Files.

SYSTEM LOCATION:

Office of General Counsel, Federal Communications Commission (FCC), 445 12th Street, SW., Room 8-C743, Washington, DC 20554.

CATEGORIES OF INDIVIDUALS COVERED BY THE SYSTEM:

Any attorney who appears in a representative capacity before the FCC and who is charged with attorney misconduct.

CATEGORIES OF RECORDS IN THE SYSTEM:

The records in this system of records include correspondence, briefs, related FCC agenda items, bar association recommendations, investigative findings, complaints of attorney misconduct, memoranda, and pleadings.

AUTHORITY FOR MAINTENANCE OF THE SYSTEM:

5 U.S.C. 500(d).

PURPOSE(S):

Record information is used by staff attorneys to prosecute a case for attorney misconduct before FCC administrative law judges or before the Commission.

ROUTINE USES OF RECORDS MAINTAINED IN THE SYSTEM, INCLUDING CATEGORIES OF USERS AND THE PURPOSES OF SUCH USES:

Where there is an indication of a violation or potential violation of a statute, regulation, rule, or order, records from this system of records may be referred to the appropriate Federal, state, or local agency responsible for investigating or prosecuting a violation or for enforcing or implementing the statute, rule, regulation or order.

In each case the FCC will determine whether disclosure of the records is compatible with the purpose for which the records were collected.

POLICIES AND PRACTICES FOR STORING, RETRIEVING, ACCESSING, RETAINING, AND DISPOSING OF RECORDS IN THE SYSTEM:

STORAGE:

The information is stored in file folders.

RETRIEVABILITY:

Records are retrieved by the name of the attorney charged with misconduct.

SAFEGUARDS:

Records are kept in file cabinets in offices that are secured at the end of each business day. Since only one or two staff persons routinely access this record system, unauthorized examination during business hours would be easily detected.

RETENTION AND DISPOSAL:

Destroyed five years after case closure.

SYSTEM MANAGER(S) AND ADDRESS:

General Counsel, Office of General Counsel, Federal Communications Commission (FCC), 445 12th Street, SW., Room 8-C743, Washington, DC 20554.

NOTIFICATION, RECORD ACCESS AND CONTESTING RECORD PROCEDURES:

This system is exempt from the requirement that the agency publish the procedures for notifying an individual, at his or her request, if the system contains a record pertaining to him/her, for gaining access to such record, and for contesting the contents of the record.

RECORD SOURCE CATEGORIES:

This system is exempt from the requirement that the agency publish the categories of sources of records in this system.

EXEMPTIONS CLAIMED FOR THE SYSTEM:

This system of records is exempt from Subsections (c)(3), (d), (e)(1), (e)(4)(G), (H), and (I) and (f) of the Privacy Act of 1974, 5 U.S.C. 552a, and from §§ 0.554-0.557 and 0.559 of the Commission's rules. These provisions concern notification, record access, and contesting procedures, as well as publication of record sources. The system is exempt from these provisions because it is maintained for law enforcement purposes pursuant to subsection (k)(2) of the Act.

FCC/OGC-3

SYSTEM NAME:

Employee Complaint Adjudication.

SYSTEM LOCATION:

Office of General Counsel, Federal Communications Commission (FCC), 445 12th Street, SW., Room 8-C743, Washington, DC 20554.

CATEGORIES OF INDIVIDUALS COVERED BY THE SYSTEM:

Any Commission employee who is the subject of a complaint investigation involving internal personnel actions or activities, i.e., discrimination, grievance, political activity, separation, or adverse action.

CATEGORIES OF RECORDS IN THE SYSTEM:

Records in this system of records involve internal personnel disputes that have reached the hearing stage, and may include correspondence, memoranda, transcripts of hearings, briefs, pleadings, investigative reports, decisions of hearing examiners, and Commissioners.

AUTHORITY FOR MAINTENANCE OF THE SYSTEM:

5 U.S.C. 301.

PURPOSE(S):

1. These records are used by staff attorneys in the General Counsel's office in settlement negotiations with opposing parties; records are also used in preparation for hearings before an administrative body or a court of appropriate jurisdiction.

2. A record on an individual in a system of records may be disclosed where pertinent, in any legal proceeding to which the Commission is a party before a court or administrative body.

ROUTINE USES OF RECORDS MAINTAINED IN THE SYSTEM, INCLUDING CATEGORIES OF USERS AND THE PURPOSES OF SUCH USES:

1. A record from this system of records may be disclosed to the Department of Justice or in a proceeding before a court of adjudicative body when:

(a) The United States, the Commission, a component of the Commission, or when represented by the government, an employee of the FCC is a party to litigation or anticipated litigation or has an interest in such litigation, and

(b) The Commission determines that the disclosure is relevant or necessary to the litigation.

2. A record from this system of records which concerns information on pay and leave, benefits, retirement deductions, and any other pertinent information may be disclosed to the Office of Personnel Management in order for it to carry out its legally authorized Government-wide functions and duties.

In each of these cases, the FCC will determine whether disclosure of the records is compatible with the purpose for which the records were collected.

POLICIES AND PRACTICES FOR STORING, RETRIEVING, ACCESSING, RETAINING, AND DISPOSING OF RECORDS IN THE SYSTEM:

STORAGE:

The information is stored in file folders.

RETRIEVABILITY:

Records are retrieved by the name of the subject individual in the investigation.

SAFEGUARDS:

Records are maintained in file cabinets in an office that is secured at the end of each business day. Since only one or two staff persons routinely access this record system, unauthorized examination during business hours would be easily detected.

RETENTION AND DISPOSAL:

Destroyed five years after case closure.

SYSTEM MANAGER(S) AND ADDRESS:

General Counsel, Office of General Counsel, Federal Communications Commission, 445 12th Street, SW., Room 8-C743, Washington, DC 20554.

NOTIFICATION PROCESS:

Address inquiries to the system manager.

RECORD ACCESS PROCEDURE:

Same as above.

CONTESTING RECORD PROCEDURE:

Same as above.

RECORD SOURCE CATEGORIES:

Co-workers of subject individual, other supervisors, classification experts, other persons involved in the case.

EXEMPTIONS CLAIMED FOR THE SYSTEM:

None.

FCC/OGC-5

SYSTEM NAME:

Parties with Pending Civil Cases that Affect the Commission before any District Court; before any Court of Appeals; and before the Supreme Court.

SYSTEM LOCATION:

Office of General Counsel, Federal Communications Commission (FCC), 445 12th Street, SW., Room 8-C743, Washington, DC 20554.

CATEGORIES OF INDIVIDUALS COVERED BY THE SYSTEM:

Any individual who has a miscellaneous case involving the Commission before any District Court; before any Court of Appeals; and before the Supreme Court.

CATEGORIES OF RECORDS IN THE SYSTEM:

Letters, memoranda, pleadings, briefs, and bankruptcy papers.

AUTHORITY FOR MAINTENANCE OF THE SYSTEM:

47 U.S.C. 402.

PURPOSE(S):

Information in this system of records is used by Commission attorneys to update information or furnish additional data for the Government agency handling the case. The records contained in this system are available for public inspection to the extent that they do not contain information usually exempt from mandatory disclosure under Exemption 5 of the FOIA, 5 U.S.C. 552(b)(5).

ROUTINE USES OF RECORDS MAINTAINED IN THE SYSTEM, INCLUDING CATEGORIES OF USERS AND THE PURPOSES OF SUCH USES:

1. A record on an individual in this system of records may be disclosed, where pertinent, in any legal proceeding to which the Commission is a party before a court or administrative body.

2. A record from this system of records may be disclosed to the Department of Justice or in a proceeding before a court or adjudicative body when:

(a) The United States, the Commission, a component of the Commission, or, when represented by the government, an employee of the Commission is a party to litigation or anticipated litigation or has an interest in such litigation, and

(b) The Commission determines that the disclosure is relevant or necessary to the litigation.

3. A record in this system of records which concerns information on pay and leave, benefits, retirement deductions, and any other pertinent information may be disclosed to the Office of Personnel Management in order for it to carry out its legally authorized Government-wide functions and duties.

In each of these cases, the FCC will determine whether disclosure of the records is compatible with the purpose for which the records were collected.

POLICIES AND PRACTICES FOR STORING, RETRIEVING, ACCESSING, RETAINING, AND DISPOSING OF RECORDS IN THE SYSTEM:

STORAGE:

Data are stored in file folders.

RETRIEVABILITY:

Records are retrieved by the name of the individual filing the claim.

SAFEGUARDS:

Records are maintained in file cabinets in an office that is secured at the end of each business day.

RETENTION AND DISPOSAL:

The records are destroyed when no longer needed or after five years, whichever occurs first.

SYSTEM MANAGER(S) AND ADDRESS:

General Counsel, Office of General Counsel, Federal Communications Commission (FCC), 445 12th Street, SW., Room 8-C743, Washington, DC 20554.

NOTIFICATION PROCEDURE:

Address inquiries to the system manager.

RECORD ACCESS PROCEDURE:

Address inquiries to the system manager.

CONTESTING RECORD PROCEDURES:

Address inquiries to the system manager.

RECORD SOURCE CATEGORIES:

Justice Department: U.S. Attorneys; other Federal agencies: U.S. District Courts; and parties to the proceedings.

EXEMPTIONS CLAIMED FOR THE SYSTEM:

None.

FCC/OGC-6

SYSTEM NAME:

Private or Civil Injury Claimants.

SYSTEM LOCATION:

Office of General Counsel, Federal Communications Commission (FCC), 445 12th Street, SW., Room 8-C743, Washington, DC 20554.

CATEGORIES OF INDIVIDUALS COVERED BY THE SYSTEM:

Any individual who files a damage claim against the Commission or commits a tort against a Commission employee.

CATEGORIES OF RECORDS IN THE SYSTEM:

Information in this system of records includes accident reports, tort claim vouchers, correspondence, memoranda, medical and payment receipts, repair and payment receipts, and pictures.

AUTHORITY FOR MAINTENANCE OF THE SYSTEM:

Federal Tort Claims Act, 28 U.S.C. 2672.

PURPOSE(S):

Record information is used by attorneys in the Office of General Counsel to determine whether a damage claim filed against the Commission should be paid and for reference purposes when similar cases arise. If it is determined that the claim should not be paid or if the Commission cannot make the final determination whether or not to pay a claim, the record is routinely transferred to the appropriate agency charged with the responsibility of disposition. The records contained in this system are available for public inspection to the extent that they do not contain information usually exempt from mandatory disclosure under Exemption 5 of the FOIA, 5 U.S.C. 552(b)(5).

ROUTINE USES OF RECORDS MAINTAINED IN THE SYSTEM, INCLUDING CATEGORIES OF USERS AND THE PURPOSES OF SUCH USES:

1. A record on an individual in this system of records may be disclosed, where pertinent, in any legal proceeding to which the Commission is a party before a court or administrative body.

2. A record from this system of records may be disclosed to the Department of Justice or in a proceeding before a court or adjudicative body when:

(a) The United States, the Commission, or, when an employee of the Commission is a party to litigation or anticipated litigation or has an interest in such litigation, and

(b) The Commission determines that the disclosure is relevant or necessary to the litigation.

In each of these cases, the FCC will determine whether the disclosure of the records is compatible with the purpose for which the records were collected.

POLICIES AND PRACTICES FOR STORING, RETRIEVING, ACCESSING, RETAINING, AND DISPOSING OF RECORDS IN THE SYSTEM:

STORAGE:

File folders.

RETRIEVABILITY:

Records are retrieved by the name of the individual who filed the claim.

SAFEGUARDS:

Records are kept in a file cabinet in an office that is locked at the end of each business day. Since only one or two office persons routinely access this system, unauthorized examination during business hours would be easily detected.

RETENTION AND DISPOSAL:

Records are destroyed five years after case closure.

SYSTEM MANAGER(S) AND ADDRESS:

General Counsel, Office of General Counsel, Federal Communications Commission, 445 12th Street, SW., Room 8-C743, Washington, DC 20554.

NOTIFICATION PROCEDURE:

Address inquiries to the system manager.

RECORD ACCESS PROCEDURE:

Same as above.

CONTESTING RECORD PROCEDURES:

Same as above.

RECORD SOURCE CATEGORIES:

Witnesses: Office of General Counsel; Office of Managing Director: claimants; and employees.

EXEMPTIONS CLAIMED FOR THE SYSTEM:

The records contained in this system are available for public inspection to the extent that they do not contain information usually exempt from mandatory disclosure under Exemption 5 of the FOIA, 5 U.S.C. 552(b)(5).

FCC/OIG-1

SYSTEM NAME:

Criminal Investigative Files.

SECURITY CLASSIFICATION:

Not applicable.

SYSTEM LOCATION:

Office of Inspector General (OIG), Federal Communications Commission (FCC), 445 12th Street, SW., Room 2-C762, Washington, DC 20554.

CATEGORIES OF INDIVIDUALS COVERED BY THIS SYSTEM:

This system of records is limited to records on individuals, including present and former FCC employees, who are or have been the subjects of investigations conducted by the OIG in accordance with the Inspector General's (IG) authority derived from the Inspector General Act of 1978, as amended, 5 U.S.C. appendix 3. These investigations arise within the context of alleged violations of criminal laws which proscribe fraud, waste, and abuse in the execution of the Commission's programs and operations.

CATEGORIES OF RECORDS IN THE SYSTEM:

1. Case files developed during investigations of known or alleged fraud, waste, and abuse, or other irregularities or violations of criminal laws and regulations;

2. Case files related to programs and operations administered or financed by the FCC, including contractors and others doing business with the FCC;

3. Investigative files relating to FCC employees' hotline complaints and other miscellaneous complaint files; and

4. Investigative reports and related documents, such as correspondence, notes, attachments, and working papers.

AUTHORITY FOR MAINTENANCE OF THE SYSTEM:

Inspector General Act of 1978, as amended by Pub. L. 100-504, October 18, 1988.

PURPOSE(S):

This action is required in order to reflect the creation of the OIG in March 1989, and its statutory authorization to perform investigations, see 54 FR 15194, April 17, 1989. This system consists of the OIG's Investigative Files compiled for criminal investigation purposes:

1. For the purpose of preventing or detecting fraud, waste, or abuse;

2. Conducting and supervising audits and investigations relating to programs and operations in the Commission; and

3. Informing the Chairman about problems and deficiencies in the Commission's programs and operations or suggesting corrective action in reference to identified irregularities, problems, or deficiencies.

ROUTINE USES OF RECORDS MAINTAINED IN THE SYSTEM, INCLUDING CATEGORIES OF USERS AND THE PURPOSES OF SUCH USES:

Records maintained by the OIG to carry out its functions may be disclosed, as routine use, as follows:

1. Where there is an indication of violation or potential violation of statute, regulation, rule or order, records from this system may be referred to the appropriate Federal, foreign, state or local agency responsible for investigating or prosecuting a violation or for enforcing or implementing the statute, rule, regulation, or order.

2. To any source, either private or government, to the extent necessary to secure from such source information relevant to and sought in furtherance of an investigation or audit to be conducted by the OIG.

3. To private contractors for the purpose of collating, analyzing, aggregating, or otherwise refining records pertaining to an OIG investigation or audit. Disclosure will also be made to independent auditors who by contract carry out audits on behalf of the OIG. Such contractors will be required to maintain Privacy Act safeguards with respect to such records.

4. To the U.S. Department of Justice in order to obtain that department's advice regarding disclosure obligations under the Freedom of Information Act within the context of investigations and audits conducted by the OIG.

5. To the Office of Management and Budget in order to obtain that office's advice regarding obligations under the Privacy Act within the context of investigations and audits conducted by the OIG.

6. To the Department of Justice or the Office of General Counsel of the Commission or independent counsel retained by OIG when the defendant in litigation is:

(a) Any component of the Commission or any employee of the Commission in his or her official capacity;

(b) The United States where the Commission determines that the claim, if successful, is likely to directly affect the operations of the Commission;

(c) Any Commission employee in his or her individual capacity where the Department of Justice and/or the Office of the General Counsel of the Commission agree to represent such employee.

In each of these cases, the FCC will determine whether disclosure of the records is compatible with the purpose for which the records are collected.

POLICIES AND PRACTICES FOR STORING, RETRIEVING, ACCESSING, RETAINING, AND DISPOSING OF RECORDS IN THE SYSTEM:

STORAGE:

The OIG Investigative Files consist either of paper records maintained in file folders or an automated database maintained on computer diskettes or on a computer network. All records are stored under secure conditions.

RETRIEVABILITY:

Records are filed alphabetically by name of the subject of the investigation or by a unique file number assigned to each investigation.

SAFEGUARDS:

Paper and diskette records are kept in locked file cabinets in offices that are further secured at the end of each business day. Limited access of these records is permitted by those persons whose official duties require such access, thus unauthorized examination during business hours would be easily detected. Data resident on network servers are backed-up daily to magnetic media. One week's worth of back-up tapes is stored on-site in fireproof safes. Each week, the previous week's backup tapes are sent to an off-site storage location. A maximum of ten week's tapes are kept and cycled in this fashion.

RETENTION AND DISPOSAL:

The Investigative Files are kept by the specified periods of five to ten years from the date the files are closed, in accordance with the National Archives and Records Schedule 22. Disposition of records shall be in accordance with FCC Records Maintenance and Disposition System.

SYSTEM MANAGER(S) AND ADDRESS:

Inspector General, Office of Inspector General, Federal Communications Commission (FCC), 445 12th Street, SW., Room 2-C762, Washington, DC 20554.

NOTIFICATION, RECORD ACCESS AND CONTESTING PROCEDURES:

Pursuant to section (j)(2) of the Privacy Act, the publication of notification, access and contesting procedures for records contained in this system is not necessary. Under certain circumstances, however, a determination as to the availability of these procedures shall be made at the time a request for notification, access, or contesting is received. Such inquiries should be addressed to the System Manager at the above address. Written requests should be clearly marked, “Privacy Act Request” on the envelope and letter, and include the full name of the individual, some type of appropriate personal identification, and the current address.

RECORD ACCESS PROCEDURES:

See statement in the notification procedures section above.

CONTESTING RECORD PROCEDURES:

See statement in the notification procedures section above.

RECORD SOURCE CATEGORIES:

Pursuant to section (j)(2) of the Privacy Act, 5 U.S.C. 552a(j)(2), the Commission is not required to publish the categories of the sources from which records contained in this system are obtained.

EXEMPTIONS CLAIMED FOR THE SYSTEM:

Pursuant to section (j)(2) of the Privacy Act, 5 U.S.C. 552a(j)(2), this system is exempt from all of the provisions of the Privacy Act except subsections (b), (c)(1) and (c)(2), (e)(4)(A) through (F), (e)(6), (e)(7), (e)(9), (e)(10) (e)(11) and (i). The Commission's rules implementing the Privacy Act will state that this system of records is exempt from the Privacy Act provisions referred to in this paragraph. See 47 CFR 0.561.

FCC/OIG-2

SYSTEM NAME:

General Investigative Files.

SECURITY CLASSIFICATION:

Not applicable.

SYSTEM LOCATION:

Office of Inspector General (OIG), Federal Communications Commission (FCC), 445 12th Street, SW., Room 2-C762, Washington, DC 20554.

CATEGORIES OF INDIVIDUALS COVERED BY THIS SYSTEM:

This system of records contains records on individuals, including present and former FCC employees, who are or have been the subjects of general investigations conducted by the OIG relating to allegations raised pertaining to fraud, waste, and abuse with respect to programs and operations of the Commission.

CATEGORIES OF RECORDS IN THE SYSTEM:

Case files developed during investigations of known or alleged fraud, waste, and abuse, or other irregularities or violations of laws and regulations. Case files related to programs and operations administered or financed by the FCC, including contractors and others doing business with the FCC. Investigative files relating to FCC employee's hotline complaints, and other miscellaneous complaint files. Investigative reports and related documents, such as correspondence, notes, attachments, and working papers.

AUTHORITY FOR MAINTENANCE OF THE SYSTEM:

Inspector General Act of 1978, as amended by Pub. L. 100-504, October 18, 1988.

PURPOSE(S):

For the purpose of preventing or detecting waste, fraud, or abuse, conducting and supervising audits and investigations relating to programs and operations, informing the Chairman about problems and deficiencies in the Commission's programs and operations or suggesting corrective action in reference to identified irregularities, problems or deficiencies, the Commission's Inspector General is establishing this system of records. This action is required in order to reflect the creation of the OIG in March 1989, and its statutory authorization to perform investigations, see 54 FR 15194, April 17, 1989. This system consists of the OIG's Investigative Files compiled for law enforcement purposes.

ROUTINE USES OF RECORDS MAINTAINED IN THE SYSTEM, INCLUDING CATEGORIES OF USERS AND THE PURPOSES OF SUCH USES:

Records maintained by the OIG to carry out its functions may be disclosed, as routine uses, as follows:

1. Where there is an indication of violation or potential violation of a statute, regulation, rule, or order, records from this system may be referred to the appropriate Federal, foreign, state or local agency responsible for investigating or prosecuting a violation or for enforcing or implementing the statute, rule, regulation or order.

2. To any source, either private or governmental, to the extent necessary to secure from such source information relevant to and sought in furtherance of an investigation or audit to be conducted by the OIG.

3. To private contractors for the purpose of collating, analyzing, aggregating, or otherwise refining records pertaining to an OIG investigation or audit. Disclosure will also be made to independent auditors who by contract carry out audits on behalf of the OIG. Such contractors will be required to maintain Privacy Act safeguards with respect to such records.

4. To the Department of Justice in order to obtain that department's advice regarding disclosure obligations under the Freedom of Information Act within the context of investigations and audits conducted by the OIG.

5. To the Office of Management and Budget in order to obtain that office's advice regarding obligations under the Privacy Act within the context of investigations and audits conducted by the OIG.

6. To the Department of Justice or the Office of General Counsel of the Commission or independent counsel retained by OIG when the defendant in litigation is:

(a) Any component of the Commission or any employee of the Commission in his or her official capacity;

(b) The United States where the Commission determines that the claim, if successful, is likely to directly affect the operations of the Commission;

(c) Any Commission employee in his or her individual capacity where the Department of Justice and/or the Office of the General Counsel of the Commission agree to represent such employee.

In each of these cases, the FCC will determine whether disclosure of the records is compatible with the purpose for which the records were recorded.

POLICIES AND PRACTICES FOR STORING, RETRIEVING, ACCESSING, RETAINING, AND DISPOSING OF RECORDS IN THE SYSTEM:

STORAGE:

The OIG Investigative Files consist either of paper records maintained in file folders or an automated database maintained on computer diskettes or on a computer network. All records are stored under secure conditions.

RETRIEVABILITY:

Records are filed alphabetically by name of subject of the investigation or by a unique file number assigned to each investigation.

SAFEGUARDS:

Paper and diskette records are kept in locked file cabinets in offices that are further secured at the end of each business day. Limited access of these records is permitted by those persons whose official duties require such access, thus unauthorized examination during business hours would be easily detected. Data resident on network servers are backed-up daily to magnetic media. One week's worth of back-up tapes is stored on-site in fireproof safes. Each week, the previous week's backup tapes are sent to an off-site storage location. A maximum of ten week's tapes are kept and cycled in this fashion.

RETENTION AND DISPOSAL:

The Investigative Files are kept by the specified periods of 5 to 10 years from the date the files are closed, in accordance with the National Archives and Records Schedule 22. Disposition of records shall be in accordance with FCC Records Maintenance and Disposition System.

SYSTEM MANAGER(S) AND ADDRESS:

Inspector General, Office of Inspector General, Federal Communications Commission, 445 12th Street, SW., Room 2-C762, Washington, DC.

NOTIFICATION, RECORD ACCESS AND CONTESTING RECORD PROCEDURES:

Pursuant to section (k)(2) of the Privacy Act the publication of notification, access and contesting procedures for records contained in this system is not necessary. Under certain circumstances, however, a determination as to the availability of these procedures shall be made at the time a request for notification, access, or contesting is received. Such inquiries should be addressed to the System Manager at the above address. Written requests should be clearly marked, “Privacy Act Request” on the envelope and letter. Include full name of the individual, some type of appropriate personal identification, and current address.

RECORD SOURCE CATEGORIES:

Pursuant to section (k)(2) of the Privacy Act, 5 U.S.C. 552a(k)(2), the Commission is not required to publish the categories of the sources from which records contained in this system are obtained.

EXEMPTIONS CLAIMED FOR THE SYSTEM:

Pursuant to section (k)(2) of the Privacy Act, 5 U.S.C. 552a(k)(2), this system is exempt from all of the provisions of the Privacy Act: (c)(3), (d), (e)(1), (e)(4)(G), (e)(4)(H), (e)(4)(I) and (f). The Commission's rules implementing the Privacy Act will state that this system of records is exempt from the Privacy Act provisions referred to in this paragraph. See 47 CFR 0.561.

FCC/OMD-2

SYSTEM NAME:

Labor and Employee Relations Case Files.

SYSTEM LOCATION:

Labor Relations and Workforce Effectiveness Service Center, Office of Associate Managing Director-Human Resources Management, Office of Managing Director, Federal Communications Commission (FCC), 445 12th Street, SW., Room 1-B104, Washington, DC. 20554.

CATEGORIES OF INDIVIDUALS COVERED BY THE SYSTEM:

Current and former FCC employees.

CATEGORIES OF RECORDS IN THE SYSTEM:

1. This system contains a variety of records relating to formal and informal actions based on conduct or performance and also includes the files dealing with: Grievances filed under the negotiated or administrative grievance procedures, Requests for reconsideration, Arbitrations, Appeals, and Miscellaneous inquiries and complaints.

2. The records may include information such as case number, employee name, Social Security Number, grade, job title, and employment history.

3. The records may also include copies of notices of proposed actions; materials relied on by the agency to support the proposed action; statements of witnesses; employee responses or appeals; transcripts; and agency decisions.

AUTHORITY FOR MAINTENANCE OF THE SYSTEM:

5 U.S.C. 33, 35, 43, 61, 63, 71, 73, 75, and 77; 5 CFR parts 315, 359, 432, 531, 532, 610, 630, 715, 733, 735, 752, and 771.

ROUTINE USES OF RECORDS MAINTAINED IN THE SYSTEM, INCLUDING CATEGORIES OF USERS AND THE PURPOSES OF SUCH USE:

1. A record from this system of records may be disclosed to FCC officials when such officials have a “need to know” in carrying out their officials duties.

2. A record from this system may be disclosed to officials of labor organizations recognized under 5 U.S.C. chapter 71 when relevant and necessary to their duties of exclusive representation concerning personnel policies, practices, and matters affecting working conditions.

3. Where there is an indication of a violation or potential violation of a statute, regulation, rule, or order, records from this system may be referred to the appropriate Federal, state, or local agency responsible for investigating or prosecuting a violation or for enforcing or implementing the statute, rule, regulation or order.

4. A record from this system may be disclosed to those sources from which additional information is requested in order to process personnel actions, to the extent necessary to identify the individual, inform the source or the purpose(s) of the request, and to identify the type of information requested.

5. A record from this system may be disclosed to a Federal agency, in response to its request, in connection with the hiring or retention of an employee, the issuance of a security clearance, the conducting of a security or suitability investigation of an individual, or the classifying of jobs, to the extent that the information is relevant and necessary to the requesting agency's decision on the hiring or retention of an employee or the issuance of a security clearance.

6. A record from this system may be disclosed to a Congressional office in response to an inquiry the individual has made to the Congressional office.

7. A record on an individual in this system of records may be disclosed, where pertinent, in any legal proceeding to which the Commission is a party before a court or administrative body.

8. A record from this system may be disclosed in response to a request for discovery or for appearance of a witness or when the information is relevant to a subject matter involved in a pending judicial or administrative proceeding.

9. A record from this system may be disclosed to officials of the Merit Systems Protection Board, including the Office of the Special Counsel, when requested in connection with appeals, special studies of the civil service and other merit systems, review of OPM rules and regulations, investigations of alleged or possible prohibited personnel practices, and such other functions; e.g., as promulgated in 5 U.S.C. 1205-1206, or as may be authorized by law.

10. A record from this system may be disclosed to the Equal Employment Opportunity Commission when requested in connection with investigations into alleged or possible discrimination practices in the Federal sector, examination of Federal affirmative employment programs, compliance by Federal agencies with applicable laws and regulations, or other functions vested in the Commission by applicable law.

11. A record from this system may be disclosed to the Federal Labor Relations Authority or its General Counsel when requested in connection with investigations of allegations of unfair labor practices or matters before the Federal Service Impasses Panel.

12. A record from this system may be disclosed to other Federal agencies needed for the performance of their official duties related to reconciling or reconstructing data files, in relating to personnel actions.

In each of these cases, the FCC will determine whether disclosure of the records is compatible with the purpose for which the records were collected.

POLICIES AND PRACTICES FOR STORING, RETRIEVING, ACCESSING, RETAINING, AND DISPOSING OF RECORDS IN THE SYSTEM:

STORAGE:

These records are maintained in file folders.

RETRIEVABILITY:

These records are retrieved preliminarily by case number. An examination of case logs will disclose the name of an employee associated with a case number.

SAFEGUARDS:

These records are maintained in secured metal filing cabinets to which only authorized personnel have access.

RETENTION AND DISPOSAL:

1. Records pertaining to the following matters are disposed of at the end of the first fiscal year following completion of the fiscal year in which the action was taken: Informal actions based on conduct or performance; Oral admonishments confirmed in writing; and Written reprimands.

2. Records pertaining to the following matters are disposed of at the end of the third fiscal year following completing of the fiscal year in which the action was taken: Grievances processed under the negotiated or administrative grievance procedures; Appeals; Request for restoration of annual leave; and Requests for admission to the agency's leave transfer program.

3. Records pertaining to the following matters are disposed of at the end of the fourth fiscal year following completion of the fiscal year in which the action was taken: Within-grade increase denials/postponements; Suspensions, removals, and furloughs taken under authority of 5 U.S.C. chapters 35 and 75; and Requests for reconsideration/review.

4. Records pertaining to the following matters are disposed of at the end of the fifth fiscal year following completion of the fiscal year in which the action was taken: Removals, demotions, and reassignments based on unacceptable performance; Arbitrations; and Unfair labor practices.

Disposal is by shredding or burning.

SYSTEM MANAGER(S) AND ADDRESS:

Managing Director, Office of Managing Director, Federal Communications Commission (FCC), 445 12th Street, SW., Room 1-B104, Washington, DC 20554.

NOTIFICATION PROCEDURE:

Individuals subject to an action governed by this system of records will be provided access to the record upon request, subject to applicable law and regulation. Individuals should contact the System Manager for access. They must furnish the following information in writing for their records to be located and identified: Name, Date of birth, Approximate opening and closing dates of the case and the kind of action involved, and Organizational component involved.

RECORD ACCESS PROCEDURES:

Same as notification procedure.

CONTESTING RECORD PROCEDURES:

Individuals wishing to request amendment of their records to correct factual errors should contact the System Manager in writing. The following information must be provided: Name, Date of birth, Approximate opening and closing date of the case and the kind of action involved, and Organizational component involved.

RECORD SOURCE CATEGORIES:

Information in this system of records is provided by:

Individual on whom the record is maintained, Testimony of witnesses, Supervisors and managers, Union officials, and Arbitrators and other third-parties, such as the Department of Labor, Federal Labor Relations Authority, and Merit System Protection Board.

EXEMPTIONS CLAIMED FOR THE SYSTEM:

None.

FCC/OMD-3

SYSTEM NAME:

Federal Advisory Committee Membership File (FACA).

SYSTEM LOCATION:

Associate Managing Director-PERM, Office of Managing Director, Federal Communications Commission (FCC), 445 12th Street, SW., Room 1-A836, Washington, DC 20554.

CATEGORIES OF INDIVIDUALS COVERED BY THIS SYSTEM:

Members of Federal advisory committees sponsored or co-sponsored by the FCC.

CATEGORIES OF RECORDS IN THE SYSTEM:

1. Current information regarding individual advisory committee members' names, business addresses, business telephone numbers, and occupations or titles is kept with the members' respective advisory committee.

2. Copies or original financial disclosure forms, whenever they are necessary to be filed by committee members, are kept by the members' respective advisory committees.

AUTHORITY FOR MAINTENANCE OF THE SYSTEM:

Pub. L. 92-463, Federal Advisory Committee Act.

ROUTINE USES OF RECORDS MAINTAINED IN THE SYSTEM, INCLUDING CATEGORIES OF USERS AND THE PURPOSES OF SUCH USES:

1. A record in this system may be used to distribute information to members of each committee for purposes of conducting meetings and general committee business.

2. A record in this system may be used to provide information to the public upon request, in both hardcopy and in electronic form.

3. A record in this system may be disclosed to furnish information to the General Services Administration (GSA), and if necessary, to the Office of Management and Budget (OMB), for use in compiling an annual report.

4. A record in this system may be disclosed to furnish information to Congress in response to periodic Congressional inquiries.

In each of these cases, the FCC will determine whether disclosure of the records is compatible with the purpose for which the records were collected.

POLICIES AND PRACTICES FOR STORING, RETRIEVING, ACCESSING, RETAINING, AND DISPOSING OF RECORDS IN THE SYSTEM:

STORAGE:

Records are maintained on 8½ x 11 and 8½ x 5 papers in file folders; on computer diskettes, or in the computer database system. Storage is in the Office of the Managing Director at the FCC. Specific information on Advisory Committees is generally stored with the individual Advisory Committee Official, while more general information about the committees is stored in the Office of the Managing Director.

RETRIEVABILITY:

Records are grouped by name of committee and filed and retrieved thereunder by name of committee member.

SAFEGUARDS:

Paper records are maintained in file cabinets in offices that are locked at the end of each business day, on computer diskettes, or on the computer hard drive.

RETENTION AND DISPOSAL:

Records are generally retained until the Committee is terminated, and then transferred to the Federal Records Center. In certain instances, when space is not available, records may be transferred to the Federal Records Center prior to when the Committee is terminated.

SYSTEM MANAGER(S) AND ADDRESS:

Managing Director, Office of Managing Director, Federal Communications Commission (FCC), 445 12th Street, SW., Room 1-C144, Washington, DC 20554.

NOTIFICATION PROCEDURE:

Address inquiries to the system manager. The name of advisory committee should be included in the inquiry.

RECORD ACCESS PROCEDURES:

Same as in notification procedures.

CONTESTING RECORD PROCEDURES:

Same as in notification procedure.

RECORD SOURCE CATEGORIES:

Committee members.

EXEMPTIONS CLAIMED FOR THE SYSTEM:

None.

FCC/OMD-4

SYSTEM NAME:

Security Office Control Files.

SYSTEM LOCATION:

Security Operations Center, Office of Managing Director, Federal Communications Commission (FCC), 445 12th Street, SW., Room 1-B458, Washington, DC 20554.

CATEGORIES OF INDIVIDUALS COVERED BY THE SYSTEM:

Current and former FCC employees and contractors.

CATEGORIES OF RECORDS IN THE SYSTEM:

Records in this system contain the following information: Individual's last, first, and middle names (filed alphabetically by last name), Social Security Number, Date of birth, Place of birth, Classification as to position sensitivity, Types and dates of investigations, Investigative reports, and Dates and levels of clearance.

AUTHORITY FOR MAINTENANCE OF THE SYSTEM:

Executive Orders 10450 and 12968.

PURPOSE(S):

These records are used by FCC Security Officer and the Personnel Security Specialist of the Security Office for reference in connection with the control of position sensitivity and security clearances.

ROUTINE USES OF RECORDS MAINTAINED IN THE SYSTEM, INCLUDING CATEGORIES OF USERS AND THE PURPOSES OF SUCH USES:

1. For disclosure to a Federal agency or the District of Columbia Government, in response to its request, in connection with the hiring or retention of an employee, the issuance of a security clearance, the conducting of a security or suitability investigation of an individual, the classifying of jobs, the letting of a contract, or the issuance of a license, grant, or other benefit by the requesting agency, to the extent that the information is relevant and necessary to the requesting agency's decision on the firing or retention of an employee, the issuance of a security clearance, the letting of a contract, or the issuance of a license, grant, or other benefit.

2. For disclosure to the security officer of an agency in the executive, legislative, or judicial branch, or the District of Columbia Government, in response to its request for verification of security clearances, of FCC employees to have access to classified data or areas where their official duties require such access.

3. Where there is an indication or a violation or potential violation of a statute, regulation, rule, order may be referred to the appropriate Federal, state, or local agency responsible for investigating or prosecuting a violation or for enforcing or implementing the statute, rule, regulation or order.

4. A record from this system may be disclosure to request information from a Federal, state, local or agency maintaining civil, criminal, or other relevant enforcement information, or other pertinent information records, such as licenses, if necessary to obtain information relevant to a Commission decision concerning the hiring or retention of an employee, the issuance of a security clearance, the letting of a contract, or the issuance of a grant or other benefit.

5. A record on an individual in this system of records may be disclosed to a Congressional office in response to an inquiry the individual has made to a Congressional office.

6. A record from this system of records may be disclosed to GSA and NARA for the purpose of records management inspections conducted under authority of 44 U.S.C. 2904 and 2906. Such disclosure shall not be used to make a determination about individuals.

In each of these cases, the FCC will determine whether disclosure of the records is compatible with the purpose for which the records were collected.

POLICIES AND PRACTICES FOR STORING, RETRIEVING, ACCESSING, RETAINING, AND DISPOSING OF RECORDS IN THE SYSTEM:

STORAGE:

Records are maintained in the stand alone computer database.

RETRIEVABILITY:

Records are retrieved by the name and Social Security Number of the individuals on whom they are maintained.

SAFEGUARDS:

The stand alone computer is stored within a secured area. A back up copy of these records is made weekly using 3.5 diskettes.

RETENTION AND DISPOSAL:

When an employee/contractor leaves the agency, the file in the database is deleted. If there is an investigative file on an employee/contractor, the file is kept for five years after the employee/contractor leaves the agency.

SYSTEM MANAGER(S) AND ADDRESS:

Security Operations Center, Office of Managing Director, Federal Communications Commission, 445 12th Street, SW., Room 1-B458, Washington, DC 20554.

NOTIFICATION PROCEDURE:

Individuals wishing to inquire whether this system of records contains information about them should contact the system manager indicated above. Individuals must furnish the following information for their records to be located and identified: Full name, Date of birth, and Social Security Number.

RECORD ACCESS PROCEDURES:

Individuals wishing to request access to records about them should contact the system manager indicated above. Individuals must furnish the following information for their record to be located and identified: Full name and Social Security Number. An individual requesting access must also follow FCC Privacy Act regulations regarding verification of identity and access to records. See 47 CFR 0.554-0.555.

CONTESTING RECORD PROCEDURES:

1. Individuals wishing to request amendment of their records should contact the system manager indicated above.

2. Individuals must furnish the following information for their record to be located and identified: Full name and Social Security Number.

3. An individual requesting amendment must also follow the FCC Privacy Act regulations regarding verification of identity and amendment of records, 47 CFR 0.556-0.557.

RECORD SOURCE CATEGORIES:

Records in this system include the individual to whom the information applies; investigative files maintained by the OPM Division of Personnel Investigations Processing Center; and employment information maintained by the Personnel officer of the FCC.

EXEMPTIONS CLAIMED FOR THE SYSTEM:

None.

OMD-6

SYSTEM NAME:

Records of Money Owed, Received, Refunded, and Returned.

SYSTEM LOCATION:

Financial Operations Center, Associate Managing Director-Financial Operations, Office of Managing Director, Federal Communications Commission (FCC), 445 12th Street, SW., Room 1-A625, Washington, DC 20554, and Licensing Division, Wireless Telecommunications Bureau, Federal Communications Commission (FCC), 1270 Fairfield Road, Gettysburg, Pennsylvania 17325.

CATEGORIES OF INDIVIDUALS COVERED BY THE SYSTEM:

Records in this system include the following information:

1. Individuals making payments to cover forfeitures assessed, fees collected, services rendered, and direct loans; refunds for incorrect payments or overpayments (including application processing fees, travel advances, advanced sick leave and advanced annual leave);

2. Billing and collection of bad checks; and

3. Miscellaneous monies received by the Commission (including reimbursement authorized under the Travel Reimbursement Program).

CATEGORIES OF RECORDS IN THE SYSTEM:

Record categories for this system include: Names, Social Security Numbers (SSN), Taxpayer Information Numbers (TIN), FCC Registration Numbers (FRN), Telephone numbers, Addresses of individuals, Records of services rendered, Loan payment information, Forfeitures assessed and collected, Amounts, Dates, Check numbers, Locations, Bank deposit information, Transaction type information, United States Treasury deposit numbers, Ship name and call sign, and Information substantiating fees collected, refunds issued, and interest, penalties, and administrative charges assessed to individuals.

AUTHORITY FOR MAINTENANCE OF THE SYSTEM:

Budget and Accounting Act of 1921; Budget and Accounting Procedures Act of 1950; Federal Communications Authorization Act of 1989; and 31 U.S.C. 525.

PURPOSE(S):

The primary uses of the records are: (a) To account for all monies received by the FCC from the public and refunded to the public; (b) To compute vouchers to determine amounts claimed and reimbursed; and (c) To account for all advances given to employees.

ROUTINE USES OF RECORDS MAINTAINED IN THE SYSTEM, INCLUDING CATEGORIES OF USERS AND THE PURPOSES OF SUCH USES:

1. Where there is an indication of a violation or potential violation of a statute, regulation, rule, or order, records from this system may be referred to the appropriate Federal, State, or local agency responsible for investigating or prosecuting a violation, or for enforcing or implementing the statute, rule, regulation or order.

2. A record from this system may be disclosed to request information from a Federal, State, or local agency maintaining civil, criminal, or other relevant enforcement such as licenses, if necessary, to obtain information relevant to a FCC decision concerning the hiring or retention of an employee, the issuance of a security clearance, the letting of a contract, or the issuance of a license, grant, or other benefit.

3. A record from this system may be disclosed to a Federal agency, in response to its request, in connection with the hiring or retention of an employee, the issuance of a security clearance, the reporting of an investigation of an employee, the letting of a contract, or the issuance of a license, grant or other benefit.

4. A record on an individual in this system of records may be disclosed to a Congressional office in response to an inquiry the individual has made to the Congressional office.

5. A record from this system of records may be disclosed to GSA and NARA for the purpose of records management inspections conducted under authority of 44 U.S.C. 2904 and 2906. Such disclosure shall not be used to make a determination about individuals.

6. A record on an individual in this system of records may be disclosed, where pertinent, in any legal proceeding to which the Commission is a party before a court or administrative body.

7. A record from this system of records may be disclosed to the Department of Justice or in a proceeding before a court or adjudicative body when:

(a) The United States, the Commission, a component of the Commission, or, when represented by the Government, an employee of the Commission is a party to litigation or anticipated litigation or has an interest in such litigation, and

(b) the Commission determines that the disclosure is relevant or necessary to the litigation.

8. A record from this system of records which concerns information on pay and leave, benefits, retirement deductions, and any other pertinent information may be disclosed to the Office of Personnel Management in order for it to carry out its legally authorized Government-wide functions and duties.

9. Records from this system may be disclosed to “consumer reporting agencies” as defined in the Fair Credit Reporting Act (15 U.S.C. 1681a(f) or the Federal Claims Collection Act of 1966 (31 U.S.C. 3701(a)(3)).

In each of these cases, the FCC will determine whether disclosure of the records is compatible with the purpose for which the records were collected.

POLICIES AND PRACTICES FOR STORING, RETRIEVING, ACCESSING, RETAINING, AND DISPOSING OF RECORDS IN THE SYSTEM:

STORAGE:

Paper, computer printout, microfilm, microfiche, magnetic disc, and magnetic tape.

RETRIEVABILITY:

By name and/or type of transaction; call sign; processing number, Social Security number, Taxpayer Information Number, FCC Registration Number (FRN), employer identification number, soundex number, fee control number, payment ID number, or sequential number.

SAFEGUARDS:

Records are located in secured metal file cabinets, metal vaults, and in metal file cabinets in secured rooms or secured premises, with access limited to those individuals whose official duties required access. Electronic record files are secured by passwords which are available only to authorized personnel whose duties require access.

RETENTION AND DISPOSAL:

Retained for two years following the end of the current fiscal year; then transferred to the Federal Records Center and destroyed when 6 years and 3 months old.

SYSTEM MANAGER(S) AND ADDRESS:

Managing Director, Office of Managing Director, Federal Communications Commission (FCC), 445 12th Street, SW., Room 1-A663, Washington, DC 20554.

NOTIFICATION PROCEDURE:

Address inquiries to the system manager.

RECORD ACCESS PROCEDURES:

Address inquiries to the system manager.

CONTESTING RECORD PROCEDURE:

Address inquiries to the system manager.

RECORD SOURCE CATEGORIES:

Subject individual; Federal Reserve Bank; agent of subject; Attorney-at-Law of the subject individual.

EXEMPTIONS CLAIMED FOR THE SYSTEM:

None.

FCC/OMD-7

SYSTEM NAME:

FCC Employee Transit Benefit and Parking Permit Programs.

SYSTEM LOCATION:

Associate Managing Director—Administrative Operations, ASC, Office of the Managing Director, Federal Communications Commission (FCC), 445 12th Street, SW., Room TW-C201, Washington, DC 20554.

CATEGORIES OF INDIVIDUALS COVERED BY THIS SYSTEM:

FCC employees who apply for and participate in the FCC Transit Benefit and Parking Permit Programs, such as: holders of parking permits and members of carpools and vanpools; recipients with handicap status for parking assignments; and applicants and recipients of fare subsidies issued by FCC.

CATEGORIES OF RECORDS IN THE SYSTEM:

This system contains various records required to administer the Transit Benefit and Parking Permit Programs and serves to determine the applicant's qualification based on handicap status, mode of transportation to and from work, and to certify their monthly commuting cost to and from work. These records include the following information:

1. Employee Transit Benefit Program applications, Transit Benefit certification forms, change of information on Employee Transit Benefit Program application of the transit benefit recipients, parking applications, vanpool and carpool verification, employee parking rosters, employee handicap verification, and executive staff information.

2. Data regarding the organizational location, telephone number, FCC badge number, home address, vehicle make/model, license plate number, handicap status documents, van/carpool information, executive status, mode of transportation and monthly cost of transportation of any applicant who has submitted an application for the Transit Benefit and/or Parking Permit Programs.

3. Records and reports of disbursements to transit benefit recipients, parking permit recipients, handicap status, and information on local public mass transit facilities.

AUTHORITY FOR MAINTENANCE OF THE SYSTEM:

Statutory authority to provide public transportation, parking records, and handicap parking services is derived from:

1. The Federal Employees Clean Air Incentives Act, Sec. 2(a) of Pub. L. 103-172, at 5 U.S.C. 7905;

2. Sec. 629 of Pub. L. 101-509, “State or Local Government Programs Encouraging Employee Use of Public Transportation, Federal Agency Participation,” at 5 U.S.C. note prec. section 7901; and in 47 CFR 101-20.104-2; and

3. The Federal Property and Administrative Services Act of 1949, as amended, at 5 U.S.C. 301.

ROUTINE USES OF RECORDS MAINTAINED IN THE SYSTEM, INCLUDING CATEGORIES OF USERS AND THE PURPOSES OF SUCH USES:

1. A record in this system may be disclosed to a member of Congress or to a Congressional staff member in response to an inquiry of the Congressional office made at the written request of the constituent about whom the record is maintained;

2. A record in this system may be disclosed to the Department of Justice when: (a) The agency or any component thereof; (b) any employee of the agency in his or her official capacity where the Department of Justice has agreed to represent the employee; or (c) the United States Government, is a party to litigation or has an interest in such litigation, and by careful review, the agency determines that the records are both relevant and necessary to the litigation and the use of such records by the Department of Justice is therefore deemed by the agency to be for a purpose that is compatible with the purpose for which the agency collected the records;

3. A record in this system may be disclosed to the National Finance Center (the Commission's designated payroll office), the Department of Treasury Debt Management Services and/or a current employer to effect a salary, IRS tax refund or administrative offset to satisfy an indebtedness incurred for unofficial use of transit benefits; and to Federal agencies to identify and locate former employees for the purpose of collecting such indebtedness, including through administrative, salary or tax refund offsets. Identifying and locating former employees, and the subsequent referral to such agencies for offset purposes, may be accomplished through authorized computer matching programs. Disclosures will be made only when all procedural steps established by the Debt Collection Act of 1982, and the Debt Collection Improvement Act of 1996 or the Computer Matching and Privacy Protection Act of 1988 as appropriate, have been taken;

4. A record in this system may be disclosed to a FCC employee in his/her individual capacity when inquiring about his/her application that was submitted for the Transit Benefit and/or Parking Permit Programs. Employees may do so by supplying their full name and FCC ID Badge Number (Identification Number must match number in the system);

5. A record in this system may be disclosed where there is an indication of misrepresentation to obtain, or misuse of, a transit benefit; and/or parking permit, records from this system may be referred to the appropriate FCC official responsible for revoking the transit benefit and/or parking permit, and recovering the unauthorized amount of used transit benefit, suspending employee participation in the programs, and/or may result in disciplinary action;

6. A record in this system may be disclosed to GSA/GAO for the purposes of records management inspections conducted. Such disclosure shall not be used to make a determination about an individual;

7. A record in this system may be used for administrative purposes by authorized personnel for production of listings and reports. This system may be used for periodic review of re-certification, and to ensure eligibility for, and receipt of, transit benefit and parking privileges;

8. A record from this system may be disclosed to a request for information from a Federal, state, or local agency in connection with the approval/disapproval of an application for special parking assignment; and

9. A record in this system may be disclosed to agency contractors, who have been engaged by the agency to assist in the performance of a service related to this system of records and who need to have access to the records in order to perform the necessary activity. Recipients will be required to comply with the requirements of the Privacy Act of 1974, as amended, pursuant to 5 USC 552a(m).

In each cases the FCC will determine whether disclosure of the records is compatible with the purpose for which the records were collected.

POLICIES AND PRACTICES FOR STORING, RETRIEVING, ACCESSING, RETAINING, AND DISPOSING OF RECORDS IN THE SYSTEM:

STORAGE:

Records are maintained on 8½ x 11 and 8½ x 5 papers in file folders and in the transit benefit and parking permit computer databases. Storage will be in the Office of Managing Director, AMD—Administrative Operations, ASC, Federal Communications Commission (FCC), 445 12th Street, SW., Room TW-C201, Washington, DC 20554.

RETRIEVABILITY:

Records are retrieved by the employee's name, or by the FCC Badge identification number, tag, and/or permit number

SAFEGUARDS:

Records are maintained in a secured area and are available only to authorized personnel responsible for implementing these programs and whose duties require access. Computer databases are setup with a secured password. File cabinets where the records are stored will be controlled by on-site personnel when unlocked and locked when not in use. All transit benefits and parking permits are kept in a locked cash box contained in a (cylinder lock) drawer. At close of business the cash box is to be secured in a government issued safe with a combination lock.

RETENTION AND DISPOSAL:

Records are retained and disposed of in accordance with appropriate General Records Schedule 6, National Archives and Records Administration.

SYSTEM MANAGER(S) AND ADDRESS:

Associate Managing Director—Administrative Operations, ASC, Office of the Managing Director, Federal Communications Commission (FCC), 445 12th Street, SW., Room TW-C201, Washington, DC 20554.

NOTIFICATION PROCEDURE:

Anyone inquiring about an employee record under the Transit Benefit and Parking Permit Programs should contact the Transit Benefit and Parking Permit Programs Coordinator. Individuals must supply their full name and/or FCC Badge Number (Identification Number must match what is in the system) in order for records to be located and identified.

RECORD ACCESS PROCEDURES:

Same as Notification Procedure.

CONTESTING RECORD PROCEDURES:

Same as Notification Procedure.

RECORD SOURCE CATEGORIES:

Information in these systems of records is obtained from applications submitted by individuals for the Transit Benefit and Parking Permit Programs.

EXEMPTIONS CLAIMED FOR THE SYSTEM:

None.

FCC/OMD-8

SYSTEM NAME:

Revenue Accounting Management Information System (“RAMIS”).

SYSTEM LOCATION: Financial Operations Center, Associate Managing Director—Financial

Operations (AMD-FO), Office of Managing Director (OMD), Federal Communications Commission (FCC), 445 12th Street, SW., Room 1-A625, Washington, DC 20554.

CATEGORIES OF INDIVIDUALS COVERED BY THE SYSTEM:

Records in this system include: Entities (acting on their own behalf or on behalf of a corporate entity) making payments to cover forfeitures assessed, application and regulatory fees covered, services rendered, and direct loans; refunds for incorrect payments or overpayments (including application processing fees and travel advances); billing and the collection of bad debts; and miscellaneous monies received by the Commission.

CATEGORIES OF RECORDS IN THE SYSTEM:

Records in this system include the following: Names; Social Security Numbers (SSN); Taxpayer Identification Numbers (TIN); FCC Registration Numbers (FRN); Telephone numbers; Addresses of individuals; Records of services rendered; Loan payment information; Forfeitures assessed and collected; Amounts; Dates; Check numbers; Locations; Bank deposit information; Transaction type information; United States Treasury deposit numbers; Ship name and call sign; and Information substantiating fees collected, refunds issued, and interest, penalties, and administrative charges assessed to individuals.

AUTHORITY FOR MAINTENANCE OF THE SYSTEM:

Budget and Accounting Act of 1921; Budget and Accounting Procedures Act of 1950; Federal Communications Authorization Act of 1989; and 31 U.S.C. 525.

PURPOSE(S):

The primary uses of the records are to account for all monies received by the FCC from the public and refunded to the public.

ROUTINE USES OF RECORDS MAINTAINED IN THE SYSTEM, INCLUDING CATEGORIES OF USERS AND THE PURPOSES OF SUCH USES:

1. Where there is an indication of a violation or potential violation of a statute, regulation, rule, or order, records from this system may be referred to the appropriate Federal, State, or local agency responsible for investigating or prosecuting a violation, or for enforcing or implementing the statute, rule, regulation or order.

2. A record from this system may be disclosed to request information from a Federal, State, or local agency maintaining civil, criminal, or other relevant enforcement such as licenses, if necessary, to obtain information relevant to a FCC decision concerning the hiring or retention of an employee, the issuance of a security clearance, the letting of a contract, or the issuance of a license, grant, or other benefit.

3. A record from this system may be disclosed to a Federal agency, in response to its request, in connection with the hiring or retention of an employee, the issuance of a security clearance, the reporting of an investigation of an employee, the letting of a contract, or the issuance of a license, grant or other benefit.

4. A record on an individual in this system of records may be disclosed to a Congressional office in response to an inquiry the individual has made to the Congressional office.

5. A record from this system of records may be disclosed to GSA and NARA for the purpose of records management inspections conducted under authority of 44 U.S.C. 2904 and 2906. Such disclosure shall not be used to make a determination about individuals.

6. A record on an individual in this system of records may be disclosed, where pertinent, in any legal proceeding to which the Commission is a party before a court or administrative body.

7. A record from this system of records may be disclosed to the Department of Justice or in a proceeding before a court or adjudicative body when:

(a) The United States, the Commission, a component of the Commission, or, when represented by the Government, an employee of the Commission is a party to litigation or anticipated litigation or has an interest in such litigation, and

(b) The Commission determines that the disclosure is relevant or necessary to the litigation.

8. A record from this system of records which concerns information on past due debts to the Federal Government may be disclosed to the Department of the Treasure, Financial Management Service, other federal agencies and/or your employer to offset your salary, IRS tax refund, or other payments to collect that debt.

9. Records from this system of records which concerns information on pay and leave, benefits, retirement deductions, and any other pertinent information may be disclosed to the Office of Personnel Management in order for it to carry out its legally authorized Government-wide functions and duties.

10. Records from this system may be disclosed to “consumer reporting agencies” as defined in the Fair Credit Reporting Act (15 U.S.C. 1681a(f) of the Federal Claims Collection Act of 1996 (31 U.S.C. 3701(a)(3)).

In each of these cases, the FCC will determine whether disclosure of the records is compatible with the purpose for which the records were collected.

POLICIES AND PRACTICES FOR STORING, RETRIEVING, ACCESSING, RETAINING, AND DISPOSING OF RECORDS IN THE SYSTEM: STORAGE:

Records are maintained in paper files, computer printout, microfiche, magnetic disc, and magnetic tape.

RETRIEVABILITY:

By name and/or type of transaction, call sign, processing number, Social Security Number, Taxpayer Identification Number (TNN), FCC Registration Number (FRN), employee identification number, fee control number, payment ID number, or sequential number.

SAFEGUARDS:

Records are located in secured metal file cabinets, metal vaults, and in metal file cabinets in secured rooms or secured premises, with access limited to those individuals whose official duties required access. Electronic record files are secured by passwords which are available only to authorized personnel whose duties require access. Data resident on network servers are backed-up daily to magnetic media. One week's worth of back-up tapes is stored on-site in fireproof safes. Each week, the previous week's backup tapes are sent to an off-site storage location. A maximum of ten week's tapes are kept and cycled in this fashion.

RETENTION AND DISPOSAL:

Retained for two years following the end of the current fiscal year; then transferred to the Federal Records Center and destroyed when 6 years and 3 months old.

SYSTEM MANAGER(S) AND ADDRESS:

Managing Director, Office of Managing Director, Federal Communications Commission (FCC), 445 12th Street, SW, Room 1-A625, Washington, DC 20554.

NOTIFICATION PROCEDURE:

Address inquiries to the system manager.

RECORD ACCESS PROCEDURES:

Address inquiries to the system manager.

CONTESTING RECORD PROCEDURE:

Address inquiries to the system manager.

RECORD SOURCE CATEGORIES:

Subject individual; Federal Reserve Bank; FCC RAMIS forms files; Agent of subject; and Attorney-at-Law of the subject individual.

EXEMPTIONS CLAIMED FOR THE SYSTEM:

None.

FCC/OMD-9

SYSTEM NAME:

Commission Registration System (“CORES”).

SYSTEM LOCATION:

Financial Operations Group, Associate Managing Director-Financial Operations (AMD-FO), Office of Managing Director (OMD), Federal Communications Commission (FCC), 445 12th Street, SW, Room 1-A625, Washington, DC 20554.

CATEGORIES OF INDIVIDUALS COVERED BY THE SYSTEM:

Records in this system include information on individuals (acting on their own behalf or on behalf of a corporate entity) who are doing business with the Federal Communications Commission. The FCC Registration Number (FRN) will be assigned by the Commission Registration System (CORES). The Registration Number will be required for anyone doing business with the Commission (feeable) after December 31, 2000 to ensure that they receive any refunds due, to service public inquiries, and to comply with the Debt Collection Improvement Act of 1996.

CATEGORIES OF RECORDS IN THE SYSTEM:

Records in this system include: Names; Address(es); Social Security Numbers (SSN); Taxpayer Identification Numbers (TIN); FCC Registration Numbers (FRN); Business entity type (person or company); Telephone number(s); Fax number(s); E-mail address(es); and Addresses of individuals or entities.

AUTHORITY FOR MAINTENANCE OF THE SYSTEM:

Communications Act of 1934, as amended, sections 8 and 9 and the Debt Collection Improvement Act of 1996, Pub.L. 104-134.

PURPOSE(S):

The primary uses of the records contained on this form are to maintain required accounts receivable, and collect fines and debts due the Federal Communications Commission. This information also assures that the individuals, or the entities which they represent, receive any refunds due.

ROUTINE USES OF RECORDS MAINTAINED IN THE SYSTEM, INCLUDING CATEGORIES OF USERS AND THE PURPOSES OF SUCH USES:

1. Where there is an indication of a violation or potential violation of a statute, regulation, rule, or order, records from this system may be referred to the appropriate Federal, State, or local agency responsible for investigating or prosecuting a violation, or for enforcing or implementing the statute, rule, regulation or order.

2. A record from this system may be disclosed to request information from a Federal, State, or local agency maintaining civil, criminal, or other relevant enforcement such as licenses, if necessary, to obtain information relevant to a FCC decision concerning the hiring or retention of an employee, the issuance of a security clearance, the letting of a contract, or the issuance of a license, grant, or other benefit.

3. A record from this system may be disclosed to a Federal agency, in response to its request, in connection with the hiring or retention of an employee, the issuance of a security clearance, the reporting of an investigation of an employee, the letting of a contract, or the issuance of a license, grant or other benefit.

4. A record on an individual in this system of records may be disclosed to a Congressional office in response to an inquiry the individual has made to the Congressional office.

5. A record on an individual in this system of records may be disclosed, where pertinent, in any legal proceeding to which the Commission is a party before a court or administrative body.

6. A record from this system of records may be disclosed to the Department of Justice or in a proceeding before a court or adjudicative body when:

(a) The United States, the Commission, a component of the Commission, or, when represented by the Government, an employee of the Commission is a party to litigation or anticipated litigation or has an interest in such litigation, and

(b) The Commission determines that the disclosure is relevant or necessary to the litigation.

7. A record from this system of records which concerns information on past due debts to the Federal Government may be disclosed to the Department of the Treasure, Financial Management Service, other federal agencies and/or your employer to offset your salary, IRS tax refund, or other payments to collect that debt.

In each of these cases, the FCC will determine whether disclosure of the records is compatible with the purpose for which the records were collected.

POLICIES AND PRACTICES FOR STORING, RETRIEVING, ACCESSING, RETAINING, AND DISPOSING OF RECORDS IN THE SYSTEM: STORAGE:

Records are maintained in paper files, computer printout, and magnetic tape.

RETRIEVABILITY:

By name and/or type of transaction; Processing number; Social Security Number; Taxpayer Identification Number; FCC Registration Number (FRN); Employer Identification Number; or Sequential number.

SAFEGUARDS:

Records are located in secured metal file cabinets, metal vaults, and in metal file cabinets in secured rooms or secured premises, with access limited to those individuals whose official duties required access. Electronic record files are secured by passwords which are available only to authorized personnel whose duties require access. Data resident on network servers are backed-up daily to magnetic media. One week's worth of back-up tapes is stored on-site in fireproof saves. Each week, the previous week's backup tapes are sent to an off-site storage location. A maximum of ten week's tapes are kept and cycled in this fashion.

RETENTION AND DISPOSAL:

Retained for two years following the end of the current fiscal year; then transferred to the Federal Records Center and destroyed when 6 years and 3 months old.

SYSTEM MANAGER(S) AND ADDRESS:

Financial Management Division, Associate Managing Director-Financial Operations (AMD-FO), Office of Managing Director (OMD), Federal Communications Commission (FCC), 445 12th Street, SW., Room 1-A625, Washington, DC 20554.

NOTIFICATION PROCEDURE:

Address inquiries to the system manager.

RECORD ACCESS PROCEDURES:

Address inquiries to the system manager.

CONTESTING RECORD PROCEDURE:

Address inquiries to the system manager.

RECORD SOURCE CATEGORIES:

Subject individual; Federal Reserve Bank; FCC CORES forms files; and Attorney-at-Law of the subject individual.

EXEMPTIONS CLAIMED FOR THE SYSTEM:

None.

FCC/WTB-1

SYSTEM NAME:

Wireless Services Licensing Records.

SYSTEM LOCATION:

Wireless Telecommunications Bureau, Room 3-C122, Federal Communications Commission (FCC), 445 12th Street, SW., Washington, DC 20554.

CATEGORIES OF INDIVIDUALS COVERED BY THE SYSTEM:

1. Licensees and applicants (including persons or entities with attributable interests therein as described below);

2. Tower owners; and

3. Contact persons relating to radio systems licensed or processed by the Wireless Telecommunications Bureau under parts 13, 22, 24, 26, 27, 74, 80, 87, 90, 95, 97, and 101 of the Commission's Rules (Wireless Services).

CATEGORIES OF RECORDS IN THE SYSTEM:

The scope of records includes applications, licenses and pleadings relating to such applications, and correspondence relating to authorizations, and requests for authorizations in the Wireless Services. The current application forms will include the collection of Taxpayer Identification Numbers (TINs).

AUTHORITY FOR MAINTENANCE OF THE SYSTEM:

47 U.S.C. 301, 303, 309, 312, 362, 364, 386, 507, and 510. The use of the Taxpayer Identification Numbers (TINs) is defined by 26 U.S.C. 6109. Authority to collect TINs under the Debt Collection Improvement Act of 1996 is found at 31 U.S.C. 7701. Licensing disclosure requirements, etc. are found under 47 CFR 1.2112 and the Biennial Regulatory Review—Amendment of Parts 0, 1, 13, 22, 24, 26, 27, 80, 87, 90, 95, 97, and 101 of the Commission's Rules to Facilitate the Development and Use of the Universal Licensing System in the Wireless Telecommunications Services, Report and Order, WT Docket No. 98-20, FCC 98-234, 13 FCC Rcd 21027 ¶¶ 132-42.

PURPOSE(S):

Records are kept to administer the FCC's regulatory responsibilities including licensing, enforcement, rulemaking, and other actions necessary to perform spectrum management duties. The system will also be maintained to provide public access to pending requests for authorizations and information regarding current licensees.

1. License records are routinely used to determine the availability of spectrum for licensing.

2. The records are also used to determine when compliance filings, renewal applications and fees are due from licensees.

3. FCC licensee records are used to resolve disputes between radio operators regarding who has certain rights to use particular frequency bands in particular geographic areas. The records may also be used to resolve cross border disputes e.g., disputes with entities operating in Canada and Mexico.

4. Records will be used to allow licensees to transfer or assign their interests in particular licenses or portions of licenses as the rules permit (after agency approval).

5. Records will be used to evaluate the completeness and sufficiency of requests for new or modified authorizations.

6. Public access to license data (except TIN numbers) will promote the economically efficient allocation of spectrum and the resolution of radio interference problems.

ROUTINE USES OF RECORDS MAINTAINED IN THE SYSTEM, INCLUDING CATEGORIES OF USERS AND THE PURPOSES OF SUCH USES:

The licensee records will be publicly available and routinely used in accordance with subsection b. of the Privacy Act. TIN Numbers and material which is afforded confidential treatment pursuant to a request made under 47 CFR § 0.459 will not be available for Public inspection. However, these and all other records may also be disclosed for the following purposes:

1. A Record from this system may be disclosed where there is an indication of a violation or potential violation of a statute, regulation or order, records from this system may be used to conduct enforcement proceedings within the agency, or may be referred to Federal, state, or local law enforcement personnel responsible for investigating, prosecuting or for enforcing or implementing the statute, regulation or order.

2. Records may be utilized to report to the President, NTIA and other federal agencies regarding the current uses and utilization of the spectrum that the FCC manages.

3. A record on an individual may be used where pertinent in any legal proceeding to which the Commission is a party before a court or administrative body.

4. A record from this system may be disclosed to the Department of Justice or in a proceeding before a court or adjudicative body when:

(a) The United States, the Commission, a component of the Commission, or, when arising from his employment, an employee of the Commission is a party to litigation or anticipated litigation or has an interest in such litigation; and

(b) The Commission determines that the disclosure is relevant or necessary to the litigation.

5. A Record from this system may be disclosed to debt collection contractors (31 U.S.C. 3718) or to other Federal agencies such as the Department of the Treasury (Treasury) for the purpose of collecting and reporting on delinquent debts as authorized by the Debt Collection Act of 1982 or the Debt Collection Improvement Act of 1996;

6. A Record from this system may be disclosed to Treasury; the Defense Manpower Data Center, Department of Defense; the United States Postal Service; government corporations; or any other Federal, State, or local agency to conduct an authorized computer matching program in compliance with the Privacy Act of 1974, as amended, to identify and locate individuals, including Federal employees, who are delinquent in their repayment of certain debts owed to the U.S. Government, including those incurred under certain programs or services administered by the FCC, in order to collect debts under common law or under the provisions of the Debt Collection Act of 1982 or the Debt Collection Improvement Act of 1996 which include by voluntary repayment, administrative or salary offset, and referral to debt collection contractors.

7. A Record from this system may be disclosed to the Department of Justice, United States Attorney, Treasury, or other Federal agencies for further collection action on any delinquent account when circumstances warrant.

8. A Record from this system may be disclosed to credit reporting agencies/credit bureaus for the purpose of either adding to a credit history file or obtaining a credit history file or comparable credit information for use in the administration of debt collection. As authorized by the DCIA, the FCC may report current (not delinquent) as well as delinquent consumer and commercial debt to these entities in order to aid in the collection of debts, typically by providing an incentive to the person to repay the debt timely. Proposed revisions to the Federal Claims Collection Standards (FCCS) published in the Federal Register on December 31, 1997, direct agencies to report information on delinquent debts to the Department of Housing and Urban Development's Credit Alert Interactive Voice Response System (CAIVRS). The FCC will report this information to CAIVRS if the proposed requirement is contained in the final rule amending the FCCS.

9. A Record from this system may be disclosed to any Federal agency where the debtor is employed or receiving some form of remuneration for the purpose of enabling that agency to collect a debt owed the Federal government on the FCC's behalf. The FCC may counsel the debtor for voluntary repayment or may initiate administrative or salary offset procedures, or other authorized debt collection methods under the provisions of the Debt Collection Act of 1982 or the Debt Collection Improvement Act of 1996. Pursuant to the DCIA, the FCC may garnish non-Federal wages of certain delinquent debtors so long as required due process procedures are followed. In these instances, the FCC's notice to the employer will disclose only the information that may be necessary for the employer to comply with the withholding order.

10. A Record from this system may be disclosed to the Internal Revenue Service (IRS) by computer matching to obtain the mailing address of a taxpayer for the purpose of locating such taxpayer to collect or to compromise a Federal claim by the FCC against the taxpayer pursuant to 26 U.S.C. 6103(m)(2) and in accordance with 31 U.S.C. 3711, 3717, and 3718 or common law. Disclosure of a mailing address obtained from the IRS may be made only for debt collection purposes, including to a debt collection agent to facilitate the collection or compromise of a Federal claim under the Debt Collection Act of 1982 or the Debt Collection Improvement Act of 1996, except that disclosure of a mailing address to a reporting agency is for the limited purpose of obtaining a credit report on the particular taxpayer. Any mailing address information obtained from the IRS will not be used or shared for any other FCC purpose or disclosed by the FCC to another Federal, State, or local agency which seeks to locate the same taxpayer for its own debt collection purposes.

11. A Record from this system may be disclosed to refer legally enforceable debts to the IRS or to Treasury's Debt Management Services to be offset against the debtor's tax refunds under the Federal Tax Refund Offset Program.

12. A Record from this system may be disclosed to prepare W-2, 1099, or other forms or electronic submittals, to forward to the IRS and applicable State and local governments for tax reporting purposes. Under the provisions of the DCIA, the FCC is permitted to provide Treasury with Form 1099-C information on discharged debts so that Treasury may file the form on the FCC's behalf with the IRS. W-2 and 1099 Forms contain information on items to be considered as income to an individual, including payments made to persons not treated as employees (e.g., fees to consultants and experts), and amounts written-off as legally or administratively uncollectible, in whole or in part.

13. A Record from this system may be disclosed to banks enrolled in the Treasury Credit Card Network to collect a payment or debt when the individual has given his or her credit card number for this purpose.

14. A Record from this system may be disclosed to another Federal agency that has asked the FCC to effect an administrative offset under common law or under 31 U.S.C. 3716 to help collect a debt owed the United States. Disclosure under this routine use is limited to name, address, TIN, and other information necessary to identify the individual; information about the money payable to or held for the individual; and other information concerning the administrative offset.

15. A Record from this system may be disclosed to Treasury or other Federal agencies with whom the FCC has entered into an agreement establishing the terms and conditions for debt collection cross-servicing operations on behalf of the FCC to satisfy, in whole or in part, debts owed to the U.S. government. Cross-servicing includes the possible use of all debt collection tools such as administrative offset, tax refund offset, referral to debt collection contractors, and referral to the Department of Justice. The DCIA requires agencies to transfer to Treasury or Treasury-designated Debt Collection Centers for cross-servicing certain nontax debt over 180 days delinquent. Treasury has the authority to act in the Federal government's best interest to service, collect, compromise, suspend, or terminate collection action in accordance with existing laws under which the debts arise.

16. Information on past due, legally enforceable nontax debts more than 180 days delinquent will be referred to Treasury for the purpose of locating the debtor and/or effecting administrative offset against monies payable by the government to the debtor, or held by the government for the debtor under the DCIA's mandatory, government-wide Treasury Offset Program (TOP). Under TOP, Treasury maintains a database of all qualified delinquent nontax debts, and works with agencies to match by computer their payments against the delinquent debtor database in order to divert payments to pay the delinquent debt. Treasury has the authority to waive the computer matching requirement for the FCC and other agencies upon written certification that administrative due process notice requirements have been complied with.

17. For debt collection purposes, the FCC may publish or otherwise publicly disseminate information regarding the identity of delinquent nontax debtors and the existence of the nontax debts under the provisions of the Debt Collection Improvement Act of 1996.

18. A Record from this system may be disclosed to the Department of Labor (DOL) and the Department of Health and Human Services (HHS) to conduct an authorized computer matching program in compliance with the Privacy Act of 1974, as amended, to match the FCC's debtor records with the records of DOL and HHS to obtain names, name controls, names of employers, addresses, dates of birth, and TINs. The DCIA requires all Federal agencies to obtain taxpayer identification numbers from each individual or entity doing business with the agency, including applicants and recipients of licenses, grants, or benefit payments; contractors; and entities and individuals owing fines, fees, or penalties to the agency. The FCC will use TINs in collecting and reporting any delinquent amounts resulting from doing business with applicants and licensees.

19. If the FCC decides or is required to sell a delinquent nontax debt pursuant to 31 U.S.C. 3711(i), information in this system of records may be disclosed to purchasers, potential purchasers, and contractors engaged to assist in the sale or to obtain information necessary for potential purchasers to formulate bids and information necessary for purchasers to pursue collection remedies.

20. If the FCC has current and delinquent collateralized nontax debts pursuant to 31 U.S.C. 3711(i)(4)a., certain information in this system of records on its portfolio of loans, notes and guarantees, and other collateralized debts will be reported to Congress based on standards developed by the Office of Management and Budget, in consultation with Treasury.

21. A Record from this system may be disclosed to Treasury in order to request a payment to individuals owed money by the FCC.

22. A Record from this system may be disclosed to the National Archives and Records Administration or to the General Services Administration for records management inspections conducted under 44 U.S.C. 2904 and 2906.

In each of these cases the FCC will determine whether such use of the records is compatible with the purpose for which the records were collected.

POLICIES AND PRACTICES FOR STORING, RETRIEVING, ACCESSING, RETAINING, AND DISPOSING OF RECORDS IN THE SYSTEM:

STORAGE:

All records will be stored and accessed electronically. Records that are submitted to the FCC on paper will be scanned or keyed into the computer system as appropriate. Paper records submitted to the FCC will be archived after being entered into ULS. Tape backups of records will be periodically created. Records of prior licensees will be archived.

RETRIEVABILITY:

A primary purpose of the system is to provide easy access to the information. Records may be retrieved by searching electronically using a variety of parameters including name, a licensee's unique identifier, call sign, file number, etc. However, paper records which contain TINs will not be available for Public Inspection.

SAFEGUARDS:

1. Records (other than TINs and materials which are afforded confidential treatment under 47 CFR 0.459) are accessible to the public.

2. Access to certain records may be available on the Internet. Access to other records will be available using a web browser on the Commission wide area network.

3. The ability to enter and change individual records will be protected by passwords issued to applicants and licensees. Records will be protected from unauthorized changes by passwords and other computer security measures within the agency.

4. TINs reported to the agency as requested on appropriate forms will not be available to the public. (The agency cannot be responsible for the disclosure of TINs by applicants in attachments to applications or pleadings in situations where confidentiality is not requested.)

5. Each applicant or licensee will be given a unique identifier generated by the ULS after such applicant or licensee provides its TIN to the agency. These identifiers will be used within the agency and by the public to obtain information on the licenses held by particular individuals or entities. These identifiers will be used in lieu of tracking by TINs so that the agency can avoid unnecessary disclosure of TINs. Within the agency, access to TINs will be available only to those persons whose jobs require such access (e.g., FCC staff who report debt information to the U.S. Department of Treasury).

6. Data resident on network servers are backed-up daily to magnetic media. One week's worth of back-up tapes is stored on-site in fireproof saves. Each week, the previous week's backup tapes are sent to an off-site storage location. A maximum of ten week's tapes are kept and cycled in this fashion.

RETENTION AND DISPOSAL:

Records will be actively maintained as long as an individual remains a licensee. Paper records will be archived after being keyed or scanned into the system. Electronic records will be backed up on tape. Electronic and paper records will be maintained for at least eleven years.

SYSTEMS MANAGER(S) AND ADDRESS:

Chief, Wireless Telecommunications Bureau (WTB), Room 3-C122, Federal Communications Commission (FCC), 445 12th Street, SW., Washington, DC 20554.

NOTIFICATION PROCEDURE:

Address inquiries to the system manager. In order to identify a specific record please indicate name, address, type of record as well as file number or call sign where applicable.

RECORD ACCESS PROCEDURES:

Information regarding procedures for accessing records can be found at the FCC Web site at www.fcc.gov or by calling 888-CALL-FCC.

CONTESTING RECORD PROCEDURES:

Individuals wishing to request amendment of their records should contact the system manager indicated above. An individual requesting amendment must also follow the FCC Privacy Act regulations regarding verification of identity and amendment of records. See 47 CFR 0.556-0.557.

RECORD SOURCE CATEGORIES:

The individual to whom the information applies.

EXEMPTIONS CLAIMED FOR THE SYSTEM:

None.

FCC/WTB-5

SYSTEM NAME:

Application Review List for Present or Former Licensees, Operators, or Unlicensed Persons Operating Radio Equipment Improperly.

SYSTEM LOCATION:

Wireless Telecommunications Bureau (WTB), Room 3-C122, Federal Communications Commission (FCC), 445 12th Street, SW., Room 3-C122, Washington, DC 20554.

CATEGORIES OF INDIVIDUALS COVERED BY THE SYSTEM:

1. Individuals who are or have been licensed under parts 13, 80, 87, 95, or 97 of the Rules who have operated in violation of the Commission's rules or the Communications Act of 1934, as amended.

2. Unlicensed persons who have operated radio transmitting equipment.

3. Persons who have had a license revoked or have had an application dismissed or denied, and are prohibited from filing another application within one year.

CATEGORIES OF RECORDS IN THE SYSTEM:

Records in this system include: Name; Address; Date of birth (if known) of individual; Authorization code of staff member who placed name in the file; and Date the name was placed in the file.

AUTHORITY FOR MAINTENANCE OF THE SYSTEM:

47 U.S.C. 301, 303, 309(e), and 312.

PURPOSE(S):

This system of records is used by selected staff and field employees to determine whether the application of these individuals should be granted, dismissed or set for hearing.

ROUTINE USES OF RECORDS MAINTAINED IN THE SYSTEM, INCLUDING CATEGORIES OF USERS AND THE PURPOSES OF SUCH USES:

1. Where there is an indication of a violation or potential violation of a statute, regulation, rule, or order, records from this system may be referred to the appropriate Federal, state, or local agency responsible for investigating or prosecuting a violation or for enforcing or implementing the statute, rule, regulations or order.

2. A record from this system may be disclosed to request information from a Federal, state, or local agency maintaining civil, criminal, or other relevant enforcement information or other pertinent information, such as licenses, if necessary to obtain information relevant to a Commission decision concerning the issuance of a license, grant or other benefit or enforcement proceedings.

3. A record from this system may be disclosed to a Federal agency, in response to its request, in connection with the hiring or retention of an employee, the issuance of a security clearance, the reporting of an investigation of an employee, the letting of a contract, or the issuance of a license, grant or other benefit.

4. A record on an individual in this system of records may be disclosed to a Congressional office in response to an inquiry the individual has made to the Congressional office.

5. A record from this system of records may be disclosed to GSA and NARA for the purpose of records management inspections conducted under authority of 44 U.S.C. 2904 and 2906. Such disclosure shall not be used to make a determination about individuals.

6. A record on an individual in this system of records may be disclosed, where pertinent, in any legal proceeding to which the Commission is a party before a court or administrative body.

7. A record from this system of records may be disclosed to the Department of Justice or in a proceeding before a court or adjudicative body when:

(a) The United States, the Commission, a component of the Commission, or, when arising from his employment, an employee of the Commission is a party to litigation or anticipated litigated or has an interest in such litigation, and

(b) The Commission determines that the disclosure is relevant or necessary to the litigation.

In each of these cases, the FCC will determine whether disclosure of the records is compatible with the purpose for which the records were collected.

POLICIES AND PRACTICES FOR STORING, RETRIEVING, ACCESSING, RETAINING, AND DISPOSING OF RECORDS IN THE SYSTEM:

STORAGE:

On magnetic tape and computer printout.

RETRIEVABILITY:

Information is filed alphabetically by name of individual in a computer and is retrieved periodically through computer printout.

SAFEGUARDS:

Access to computer is controlled by password in a secured office and the printouts are available only to selected staff personnel.

RETENTION AND DISPOSAL:

The printouts are destroyed by machine shredding or by tearing into pieces when a new list is distributed. The computer tapes are retained for four back-up cycles, and on the fifth update, the oldest tape is destroyed. Individual names are removed from the file when retention is no longer appropriate. The entire list of names is reviewed quarterly.

SYSTEM MANAGER(S) AND ADDRESS:

Chief, Wireless Telecommunications Bureau, Room 3-C122, SW., Federal Communications Commission, 445 12th Street, SW., Washington, DC. 20554.

NOTIFICATION PROCEDURE:

Address inquiries to the system manager.

RECORD ACCESS PROCEDURES:

Address inquiries to the system manager.

CONTESTING RECORD PROCEDURE:

Address inquiries to the system manager.

RECORD SOURCE CATEGORIES:

Applicants and FCC Field Engineers.

EXEMPTIONS CLAIMED FOR THE SYSTEM:

None.

FCC/WTB-6

SYSTEM NAME:

Radio Operator Records.

SYSTEM LOCATION:

Wireless Telecommunications Bureau (WTB), Federal Communications Commission (FCC), 1270 Fairfield Road, Gettysburg, Pennsylvania 17325.

CATEGORIES OF INDIVIDUALS COVERED BY THE SYSTEM:

Individuals who have applied and/or received radio operator licenses.

CATEGORIES OF RECORDS IN THE SYSTEM:

Applications for commercial radio operator licenses, records of documents issued, and correspondence.

AUTHORITY FOR MAINTENANCE OF THE SYSTEM:

Geneva Radio Regulations; 47 U.S.C. 303(l), 303(m), and 318.

PURPOSE(S):

1. For use in connection with the administration of the Commission's radio operator program including applications, and determinations of license applicant qualifications. Limited file materials concerning licensed radio operators is maintained in the agency's computer database. The information in the license database will be available for public inspection.

2. If the records indicate a possible violation of law, they may be referred to the FCC's Enforcement Bureau, Office of General Counsel, and to the appropriate agency charged with the responsibility of investigating or prosecuting such violation.

ROUTINE USES OF RECORDS MAINTAINED IN THE SYSTEM, INCLUDING CATEGORIES OF USERS AND THE PURPOSES OF SUCH USES:

1. Where there is an indication of a violation or potential violation of a statute, regulation, rule, or order, records from this system may be referred to the appropriate Federal, state, or local agency responsible for investigating or prosecuting a violation or for enforcing or implementing the statute, rule, regulation, or order.

2. A record from this system may be disclosed to request information from a Federal, state, or local agency maintaining civil, criminal, or other relevant enforcement information or other pertinent information, such as licenses, if necessary to obtain information relevant to a Commission decision concerning the hiring or retention of an employee, the issuance of a security clearance, the letting of a contract, or the issuance of a license, grant, or other benefit.

3. A record from this system may be disclosed to a Federal agency, in response to its request, in connection with the hiring or retention of an employee, the issuance of a security clearance, the reporting of an investigation of an employee, the letting of a contract, or the issuance of a license, grant, or other benefit.

4. A record on an individual in this system of records may be disclosed to a Congressional office in response to an inquiry the individual has made to the Congressional office.

5. A record from this system of records may be disclosed to GSA and NARA for the purpose of records management inspections conducted under authority of 4 U.S.C. 2904 and 2906. Such disclosure shall not be used to make a determination about individuals.

6. A record on an individual in this system of records may be disclosed, where pertinent, in any legal proceeding to which the Commission is a party before a court or administrative body.

7. A record from this system of records may be disclosed to the Department of Justice or in a proceeding before a court or adjudicative body when:

(a) The United States, the Commission, a component of the Commission, or, when represented by the government, an employee of the Commission is a party to litigation or anticipated litigation or has an interest in such litigation, and

(b) the Commission determines that the disclosure is relevant or necessary to the litigation.

In each of these cases, the FCC will determine whether disclosure of the records is compatible with the purpose for which the records were collected.

POLICIES AND PRACTICES FOR STORING, RETRIEVING, ACCESSING, RETAINING, AND DISPOSING OF RECORDS IN THE SYSTEM:

STORAGE:

Information is stored on microfilm and a computer database.

RETRIEVABILITY:

All records are retrievable by applicant name.

SAFEGUARDS:

The microfilm is stored in file cabinets in offices that are secured at the close of the business day. Access to the database is secured by passwords. Data resident on network servers are backed-up daily to magnetic media. One week's worth of back-up tapes is stored on-site in fireproof safes. Each week, the previous week's backup tapes are sent to an off-site storage location. A maximum of ten week's tapes are kept and cycled in this fashion.

RETENTION AND DISPOSAL:

Commercial applications are destroyed when 11 years old. Both General and Restricted Permit applications are retained for 75 years.

SYSTEM MANAGER(S) AND ADDRESS:

Chief, Database Management Division, Wireless Telecommunications Bureau, Federal Communications Commission (FCC), 1270 Fairfield Road, Gettysburg, PA 17325

NOTIFICATION, RECORD ACCESS AND CONTESTING RECORD PROCEDURES:

This system is exempt from the requirement that the agency publish the procedures for notifying an individual, at his or her request, if the system contains a record pertaining to him/her, for gaining access to such record, and for contesting the contents of the record.

RECORD SOURCE CATEGORIES:

This system is exempt from the requirement that the agency publish the categories of sources of records in this system.

EXEMPTIONS CLAIMED FOR THE SYSTEM:

This system of records is exempt from subsections (c)(3), (d), (e)(1), (e)(4), (G), (H), and (I), and (f) of the Privacy Act. These provisions concern the notification, record access, and contesting procedures described above and also the publication of record sources. The system is exempt from these provisions because it contains investigative material compiled for law enforcement purposes as defined in section (k)(2) of the Privacy Act.

[FR Doc. 00-27037 Filed 10-20-00; 8:45 am]

BILLING CODE 6712-01-U